DEPARTMENT OF HOUSING AND URBAN DEVELOPMENT

[Docket No. FR-4901-N-07]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7262, Department of Housing and Urban Development, 451 Seventh Street SW., Washington, DC 20410; telephone (202) 708-1234; TDD number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD reviewed in 2002 for suitability for use to assist the homeless. The properties were reviewed using information provided to HUD by Federal landholding agencies regarding unutilized and underutilized buildings and real property controlled by such agencies or by GSA regarding its inventory of excess or surplus Federal property.

In accordance with 24 CFR part 581.3(b) landholding agencies are required to notify HUD by December 31, 2003, the current availability status and classification of each property controlled by the Agencies that were published by HUD as suitable and available which remain available for application for use by the homeless.

Pursuant to 24 CFR part 581.8(d) and (e) HUD is required to publish a list of those properties reported by the Agencies and a list of suitable/unavailable properties including the reasons why they are not available.

Properties listed as suitable/available will be available exclusively for homeless use for a period of 60 days from the date of this Notice. Where property is described as for “off-site use only” recipients of the property will be required to relocate the building to their own site at their own expense. Homeless assistance providers interested in any such property should send a written expression of interest to HHS, addressed to Heather Ransom, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (i.e., acreage, floor plan, existing sanitary facilities, exact street address), providers should contact the appropriate landholding agencies at the following addresses: U.S. Army: Julie Jones-Conte, Headquarters, Department of the Army, Office of the Assistant Chief of Staff for Installation Management, Attn: DAIM-MD, Room 1E677, 600 Army Pentagon, Washington, DC 20310-0600; (703) 692-9223; Corps of Engineers: Shirley Middleswarth, Army Corps of Engineers, Civil Division, Directorate of Real Estate, 441 G Street, Washington, DC 20314-1000; (202) 761-7425; U.S. Navy: Charles C. Cocks, Dept. of Navy, Real Estate Policy Division, Naval Facilities Engineering Command, Washington Navy Yard, 1322 Patterson Ave., SE., Suite 1000, Washington, DC 20374-5065; (202) 685-9200; U.S. Air Force: Albert F. Lowas, Jr., Air Force Real Property Agency, 1700 North Moore St., Suite 2300, Arlington, VA 22209-2802; (703) 696-5501; GSA: Brian K. Polly, Office of Property Disposal, GSA, 18th and F Streets NW., Washington, DC 20405; (202) 501-0084; Dept. of Veterans Affairs: Amelia McLellan, Real Property Service, Dept. of Veterans Affairs, room 419, 810 Vermont Ave. NW., Washington, DC 20420; (202) 565-5398; Dept. of Energy: Andy Duran, Office of Engineering & Construction Management, ME-90, Washington, DC 20585; (202) 586-4548; Dept. of Transportation: Rugene Spruill, DOT Headquarters Project Team, 400 Seventh St. SW., room 10314, Washington, DC 20590; (202) 366-4246; Dept. of Interior: Linda Tribby, Acquisition & Property Management, Dept. of Interior, 1849 C St. NW., MS 5512, Washington, DC 20240; (202) 219-0728; (These are not toll-free numbers).

Dated: February 5, 2004.
John D. Garrity,
Director, Office of Special Needs Assistance Programs.

Title V. Properties Reported in Year 2003 Which Are Suitable and Available

Air Force

Alaska

Building

Bldg. 7525

Elmendorf AFB

Elmendorf AFB Co: AK 99506-

Property No.: 18200230009

Status: Unutilized

Comment: 26,226 sq. ft., needs rehab, possible asbestos/lead paint, most recent use—dormitory, off-site use only

Florida

Land

Homestead Communications Annex

Homestead Co: Dare FL 33033-

Property No.: 18200210015

Status: Excess

Comment: 20 acres w/concrete bldg., consists of wetlands/100 year floodplain, most recent use—high frequency regional broadcasting system

Hawaii

Building

Bldg. 849

Bellows AFS

Bellows AFS Co: HI

Property No.: 18200330008

Status: Unutilized

Comment: 462 sq. ft., concrete storage facility

Missouri

Building

Bldgs. 90A/B, 91A/B, 92A/B

Jefferson Barracks Housing

St. Louis Co: MO 63125-

Property No.: 18200220002

Status: Excess

Comment: 6450 sq. ft., needs repair, includes 2 acres

Nebraska

Land

Hastings Radar Bomb Scoring

Hastings Co: Adams NE 68901-

Property No.: 18199810027

Status: Unutilized

Comment: 11 acres

New York

Building

Lockport Comm. Facility

Shawnee Road

Lockport Co: Niagara NY

Property No.: 18200040004

Status: Excess

Comment: 2 concrete block bldgs., (415 & 2929 sq. ft.) on 7.68 acres

Bldg. 240

Rome Lab

Rome Co: Oneida NY 13441-

Property No.: 18200340023

Status: Unutilized

Comment: 39108 sq. ft., presence of asbestos, most recent use—Electronic Research Lab

Bldg. 247

Rome Lab

Rome Co: Oneida NY 13441-

Property No.: 18200340024

Status: Unutilized

Comment: 13199 sq. ft., presence of asbestos, most recent use—Electronic Research Lab

Bldg. 248

Rome Lab

Rome Co: Oneida NY 13441-

Property No.: 18200340025

Status: Unutilized

Comment: 4000 sq. ft., presence of asbestos, most recent use—Electronic Research Lab

Bldg. 302

Rome Lab

Rome Co: Oneida NY 13441-

Property No.: 18200340026

Status: Unutilized

Comment: 10288 sq. ft., presence of asbestos, most recent use—communications facility

South Dakota

Building

West Communications Annex

Ellsworth Air Force Base

Ellsworth AFB Co: Meade SD 57706-

Property No.: 18199340051

Status: Unutilized

Comment: 2 bldgs. on 2.37 acres, remote area, lacks infrastructure, road hazardous during winter storms, most recent use—industrial storage

Land

S. Nike Ed. Annex Land

Ellsworth AFB

Pennington Co: SD 57706-

Property No.: 18200220010

Status: Unutilized

Comment: 7 acres w/five foundations from demolished bldgs. remain on site; with a road and a parking lot

Army

Alabama

Building

Bldg. 02915

Fort Rucker

Ft. Rucker Co: Dale AL 36362-

Property No.: 21200310050

Status: Excess

Comment: 1224 sq. ft., most recent use—bath house, off-site use only

Alaska

Building

Bldgs. 09100, 09104-09106

Fort Richardson

Ft. Richardson Co: AK 99505-6500

Property No.: 21200020158

Status: Unutilized

Comment: various sq. ft., concrete, most recent use—hazard bldg., off-site use only

5 Bldgs.

Fort Richardson

09108, 09110-09112, 09114

Ft. Richardson Co: AK 99505-6500

Property No.: 21200020159

Status: Unutilized

Comment: various sq. ft., concrete, most recent use—hazard bldg., off-site use only

Bldgs. 09128, 09129

Fort Richardson

Ft. Richardson Co: AK 99505-6500

Property No.: 21200020160

Status: Unutilized

Comment : various sq. ft., concrete, most recent use—hazard bldg., off-site use only

Bldgs. 09151, 09155, 09156

Fort Richardson

Ft. Richardson Co: AK 99505-6500

Property No.: 21200020161

Status: Unutilized

Comment : various sq. ft., concrete, most recent use—hazard bldg., off-site use only

Bldg. 09158

Fort Richardson

Ft. Richardson Co: AK 99505-6500

Property No.: 21200020162

Status: Unutilized

Comment: 672 sq. ft., most recent use—storage shed, off-site use only

Bldgs. 09160-09162

Fort Richardson

Ft. Richardson Co: AK 99505-6500

Property No.: 21200020163

Status: Unutilized

Comment: 11520 sq. ft., concrete, most recent use—NCO-ENL FH, off-site use only

Bldgs. 09164, 09165

Fort Richardson

Ft. Richardson Co: AK 99505-6500

Property No.: 21200020164

Status: Unutilized

Comment: 2304 & 2880 sq. ft., most recent use—storage, off-site use only

Bldg. 10100

Fort Richardson

Ft. Richardson Co: AK 99505-6500

Property No.: 21200020165

Status: Unutilized

Comment: 4688 sq. ft., concrete, most recent use—hazard bldg., off-site use only

Bldg. 00390

Fort Richardson

Ft. Richardson Co: AK 99505-

Property No.: 21200030067

Status: Excess

Comment: 13,632 sq. ft., off-site use only

Bldgs. 01200, 01202

Fort Richardson

Ft. Richardson Co: AK 99505-

Property No.: 21200030068

Status: Excess

Comment: 4508 & 6366 sq. ft., most recent use—hazard bldg., off-site use only

Bldgs. 01205-01207

Fort Richardson

Ft. Richardson Co: AK 99505-

Property No.: 21200030070

Status: Excess

Comment: various sq. ft., most recent use—hazard bldg., off-site use only

Bldgs. 01208, 01210, 01212

Fort Richardson

Ft. Richardson Co: AK 99505-

Property No.: 21200030071

Status: Excess

Comment: various sq. ft., most recent use—hazard bldg., off-site use only

Bldgs. 01213, 01214

Fort Richardson

Ft. Richardson Co: AK 99505-

Property No.: 21200030072

Status: Excess

Comment: 11964 & 13740 sq. ft., most recent use—transient UPH, off-site use only

Bldgs. 01218, 01230

Fort Richardson

Ft. Richardson Co: AK 99505-

Property No.: 21200030073

Status: Excess

Comment: 480 & 188 sq. ft., most recent use—hazard bldgs., off-site use only

Bldgs. 01231, 01232

Fort Richardson

Ft. Richardson Co: AK 99505-

Property No.: 21200030074

Status: Excess

Comment: 458 & 4260 sq. ft., most recent use—hazard bldgs., off-site use only

Bldg. 01234

Fort Richardson

Ft. Richardson Co: AK 99505-

Property No.: 21200030075

Status: Excess

Comment: 615 sq. ft., most recent use—admin., off-site use only

Bldg. 01237

Fort Richardson

Ft. Richardson Co: AK 99505-

Property No.: 21200030076

Status: Excess

Comment: 408 sq. ft., most recent use—fuel/pol bldg., off-site use only

Bldg. 01272

Fort Richardson

Ft. Richardson Co: AK 99505-

Property No.: 21200030077

Status: Excess

Comment: 308 sq. ft., most recent use—storage, off-site use only

Bldg. 08109

Fort Richardson

Ft. Richardson Co: AK 99505-

Property No.: 21200030080

Status: Excess

Comment: 1920 sq. ft., most recent use—storage, off-site use only

Armory

NG Noorvik

Noorvik Co: AK 99763-

Property No.: 21200110075

Status: Unutilized

Comment: 1200 sq. ft., most recent use—armory, off-site use only

Bldg. 00229

Fort Richardson

Ft. Richardson Co: AK 99505-6500

Property No.: 21200120085

Status: Excess

Comment: 13,056 sq. ft., off-site use only

Bldg. 00001

Kiana Natl Guard Armory

Kiana Co: AK 99749-

Property No.: 21200340075

Status: Excess

Comment: 1200 sq. ft., butler bldg., needs repair, off-site use only

Arizona

Building

Bldg. 30012

Fort Huachuca

Sierra Vista Co: Cochise AZ 85635-

Property No.: 21199310298

Status: Excess

Comment 237 sq. ft., 1-story block, most recent use—storage

Bldg. S-306

Yuma Proving Ground

Yuma Co: Yuma/La Paz AZ 85365-9104

Property No.: 21199420346

Status: Unutilized

Comment: 4103 sq. ft., 2-story, needs major rehab, off-site use only

Bldg. 503,

Yuma Proving Ground

Yuma Co: Yuma AZ 85365-9104

Property No.: 21199520073

Status: Underutilized

Comment: 3789 sq. ft., 2-story, major structural changes required to meet floor loading & fire code requirements, presence of asbestos, off-site use only

Bldg. 00500

Yuma Proving Ground

Yuma Co: AZ 85365-9498

Property No.: 21200340076

Status: Unutilized

Comment: 4171 sq. ft., needs rehab, possible asbestos/lead paint, most recent use—training, off-site use only

California

Building

Bldgs. 204-207, 517

Presidio of Monterey

Monterey Co: CA 93944-5006

Property No.: 21200020167

Status: Unutilized

Comment: 4780 & 10950 sq. ft., presence of asbestos/lead paint, most recent use—classroom/admin/storage, off-site use only

Bldgs. 18026, 18028

Camp Roberts

Monterey Co: CA 93451-5000

Property No.: 21200130081

Status: Excess

Comment: 2024 sq. ft. & 487 sq. ft., concrete, poor condition, off-site use only

Colorado

Building

Bldg. F-107

Fort Carson

Ft. Carson Co: El Paso CO 80913-

Property No.: 21200130082

Status: Unutilized

Comment: 10,126 sq. ft., poor condition, possible asbestos/lead paint, most recent use—storage, off-site use only

Bldg. T-108

Fort Carson

Ft. Carson Co: El Paso CO 80913-

Property No.: 21200130083

Status: Unutilized

Comment: 9000 sq. ft., poor condition, possible asbestos/lead paint, most recent use—storage, off-site use only

Bldg. T-209

Fort Carson

Ft. Carson Co: El Paso CO 80913-

Property No.: 21200130084

Status: Unutilized

Comment: 400 sq. ft., poor condition, possible asbestos/lead paint, most recent use—maint. shop, off-site use only

Bldg. T-217

Fort Carson

Ft. Carson Co: El Paso CO 80913-

Property No.: 21200130085

Status: Unutilized

Comment: 9000 sq. ft., poor condition, possible asbestos/lead paint, most recent use—maint., off-site use only

Bldg. T-218

Fort Carson

Ft. Carson Co: El Paso CO 80913-

Property No.: 21200130086

Status: Unutilized

Comment: 9000 sq. ft., poor condition, possible asbestos/lead paint, most recent use—maint., off-site use only

Bldg. T-220

Fort Carson

Ft. Carson Co: El Paso CO 80913-

Property No.: 21200130087

Status: Unutilized

Comment: 690 sq. ft., poor condition, possible asbestos/lead paint, most recent use—heat plant, off-site use only

Bldg. T-6001

Fort Carson

Ft. Carson Co: El Paso CO 80913-

Property No.: 21200130088

Status: Unutilized

Comment: 4372 sq. ft., poor condition, possible asbestos/lead paint, most recent use—vet clinic, off-site use only

Bldg. S6263

Fort Carson

Ft. Carson Co: El Paso CO 80913-

Property No.: 21200310051

Status: Unutilized

Comment: 24,902 sq. ft., needs repair, presence of asbestos/lead paint, most recent use—offices, off-site use only

Bldg. S6265

Fort Carson

Ft. Carson Co: El Paso CO 80913-

Property No.: 21200310052

Status: Unutilized

Comment: 19,499 sq. ft., needs repair, presence of asbestos/lead paint, most recent use—child development center, off-site use only

Bldg. S6266

Fort Carson

Ft. Carson Co: El Paso CO 80913-

Property No.: 21200310053

Status: Unutilized

Comment: 27,286 sq. ft., needs repair, presence of asbestos/lead paint, most recent use—office, off-site use only

Bldg. S6267

Fort Carson

Ft. Carson Co: El Paso CO 80913-

Property No.: 21200310054

Status: Unutilized

Comment: 20,075 sq. ft., needs repair, presence of asbestos/lead paint, most recent use—child development center, off-site use only

Bldg. S6286

Fort Carson

Ft. Carson Co: El Paso CO 80913-

Property No.: 21200310055

Status: Unutilized

Comment: 13,128 sq. ft., needs repair, presence of asbestos/lead paint, most recent use—armory, off-site use only

Bldg. T-211

Fort Carson

Ft. Carson Co: El Paso CO 80913-

Property No.: 21200340080

Status: Unutilized

Comment: 4172 sq. ft., presence of asbestos/lead paint, most recent use—office, off-site use only

Bldg. S6250

Fort Carson

Ft. Carson Co: El Paso CO 80913-

Property No.: 21200340083

Status: Unutilized

Comment: 22,125 sq. ft., presence of asbestos/lead paint, most recent use—armory, off-site use only

Bldg. S6268

Fort Carson

Ft. Carson Co: El Paso CO 80913-

Property No.: 21200340085

Status: Unutilized

Comment: 840 sq. ft., presence of asbestos/lead paint, most recent use—storage, off-site use only

Georgia

Building

Bldg. 2285

Fort Benning

Fort Benning Co: Muscogee GA 31905-

Property No.: 21199011704

Status: Unutilized

Comment: 4574 sq. ft.; most recent use—clinic; needs substantial rehabilitation; 1 floor.

Bldg. 1252

Fort Benning

Ft. Benning Co: Muscogee GA 31905-

Property No.: 21199220694

Status: Unutilized

Comment: 583 sq. ft., 1 story, most recent use—storehouse, needs major rehab, off-site removal only.

Bldg. 4881

Fort Benning

Ft. Benning Co: Muscogee GA 31905-

Property No.: 21199220707

Status: Unutilized

Comment: 2449 sq. ft., 1 story, most recent use—storehouse, need repairs, off-site removal only.

Bldg. 4963

Fort Benning

Ft. Benning Co: Muscogee GA 31905-

Property No.: 21199220710

Status: Unutilized

Comment: 6077 sq. ft., 1 story, most recent use—storehouse, need repairs, off-site removal only.

Bldg. 2396

Fort Benning

Ft. Benning Co: Muscogee GA 31905-

Property No.: 21199220712

Status: Unutilized

Comment: 9786 sq. ft., 1 story, most recent use—dining facility, needs major rehab, off-site removal only.

Bldg. 4882

Fort Benning

Ft. Benning Co: Muscogee GA 31905-

Property No.: 21199220727

Status: Unutilized

Comment: 6077 sq. ft., 1 story, most recent use—storage, need repairs, off-site removal only.

Bldg. 4967

Fort Benning

Ft. Benning Co: Muscogee GA 31905-

Property No.: 21199220728

Status: Unutilized

Comment: 6077 sq. ft., 1 story, most recent use—storage, need repairs, off-site removal only.

Bldg. 4977

Fort Benning

Ft. Benning Co: Muscogee GA 31905-

Property No.: 21199220736

Status: Unutilized

Comment: 192 sq. ft., 1 story, most recent use—offices, need repairs, off-site removal only.

Bldg. 4944

Fort Benning

Ft. Benning Co: Muscogee GA 31905-

Property No.: 21199220747

Status: Unutilized

Comment: 6400 sq. ft., 1 story, most recent use—vehicle maintenance shop, need repairs, off-site removal only.

Bldg. 4960

Fort Benning

Ft. Benning Co: Muscogee GA 31905-

Property No.: 21199220752

Status: Unutilized

Comment: 3335 sq. ft., 1 story, most recent use—vehicle maintenance shop, off-site removal only.

Bldg. 4969

Fort Benning

Ft. Benning Co: Muscogee GA 31905-

Property No.: 21199220753

Status: Unutilized

Comment: 8416 sq. ft., 1 story, most recent use—vehicle maintenance shop, off-site removal only.

Bldg. 4884

Fort Benning

Ft. Benning Co: Muscogee GA 31905-

Property No.: 21199220762

Status: Unutilized

Comment: 2000 sq. ft., 1 story, most recent use—headquarters bldg., need repairs, off-site removal only.

Bldg. 4964

Fort Benning

Ft. Benning Co: Muscogee GA 31905-

Property No.: 21199220763

Status: Unutilized

Comment: 2000 sq. ft., 1 story, most recent use—headquarters bldg., need repairs, off-site removal only.

Bldg. 4966

Fort Benning

Ft. Benning Co: Muscogee GA 31905-

Property No.: 21199220764

Status: Unutilized

Comment: 2000 sq. ft., 1 story, most recent use—headquarters bldg., need repairs, off-site removal only.

Bldg. 4965

Fort Benning

Ft. Benning Co: Muscogee GA 31905-

Property No.: 21199220769

Status: Unutilized

Comment: 7713 sq. ft., 1 story, most recent use—supply bldg., need repairs, off-site removal only.

Bldg. 4945

Fort Benning

Ft. Benning Co: Muscogee GA 31905-

Property No.: 21199220779

Status: Unutilized

Comment: 220 sq. ft., 1 story, most recent use—gas station, needs major rehab, off-site removal only.

Bldg. 4979

Fort Benning

Ft. Benning Co: Muscogee GA 31905-

Property No.: 21199220780

Status: Unutilized

Comment: 400 sq. ft., 1 story, most recent use—oil house, need repairs, off-site removal only.

Bldg. 4023

Fort Benning

Ft. Benning Co: Muscogee GA 31905-

Property No.: 21199310461

Status: Unutilized

Comment: 2269 sq. ft., 1-story, needs rehab, most recent use—maintenance shop, off-site use only

Bldg. 4024

Fort Benning

Ft. Benning Co: Muscogee GA 31905-

Property No.: 21199310462

Status: Unutilized

Comment: 3281 sq. ft., 1-story, needs rehab, most recent use—maintenance shop, off-site use only

Bldg. 11813

Fort Gordon

Fort Gordon Co: Richmond GA 30905-

Property No.: 21199410269

Status: Unutilized

Comment: 70 sq. ft.; 1 story; metal; needs rehab.; most recent use—storage; off-site use only

Bldg. 21314

Fort Gordon

Fort Gordon Co: Richmond GA 30905-

Property No.: 21199410270

Status: Unutilized

Comment: 85 sq. ft.; 1 story; needs rehab.; most recent use—storage; off-site use only

Bldg. 12809

Fort Gordon

Fort Gordon Co: Richmond GA 30905-

Property No.: 21199410272

Status: Unutilized

Comment: 2788 sq. ft.; 1 story; wood; needs rehab.; most recent use—maintenance shop; off-site use only

Bldg. 10306

Fort Gordon

Fort Gordon Co: Richmond GA 30905-

Property No.: 21199410273

Status: Unutilized

Comment: 195 sq. ft.; 1 story; wood; most recent use—oil storage shed; off-site use only

Bldg 4051, Fort Benning

Ft. Benning Co: Muscogee GA 31905-

Property No.: 21199520175

Status: Unutilized

Comment: 967 sq. ft., 1-story, needs rehab, most recent use—storage, off-site use only

Bldg. 322

Fort Benning

Ft. Benning Co: Muscogee GA 31905-

Property No.: 21199720156

Status: Unutilized

Comment: 9600 sq. ft., needs rehab, most recent use—admin., off-site use only

Bldg. 1737

Fort Benning

Ft. Benning Co: Muscogee GA 31905-

Property No.: 21199720161

Status: Unutilized

Comment: 1500 sq. ft., needs rehab, most recent use—storage, off-site use only

Bldg. 2593

Fort Benning

Ft. Benning Co: Muscogee GA 31905-

Property No.: 21199720167

Status: Unutilized

Comment: 13644 sq. ft., needs rehab, most recent use—parachute shop, off-site use only

Bldg. 2595

Fort Benning

Ft. Benning Co: Muscogee GA 31905-

Property No.: 21199720168

Status: Unutilized

Comment: 3356 sq. ft., needs rehab, most recent use—chapel, off-site use only

Bldg. 4476

Fort Benning

Ft. Benning Co: Muscogee GA 31905-

Property No.: 21199720184

Status: Unutilized

Comment: 3148 sq. ft., needs rehab, most recent use—vehicle maint. shop, off-site use only

8 Bldgs.

Fort Benning

4700-4701, 4704-4707, 4710-4711

Ft. Benning Co: Muscogee GA 31905-

Property No.: 21199720189

Status: Unutilized

Comment: 6433 sq. ft. each, needs rehab, most recent use—unaccompanied personnel housing, off-site use only

Bldg. 4714

Fort Benning

Ft. Benning Co: Muscogee GA 31905-

Property No.: 21199720191

Status: Unutilized

Comment: 1983 sq. ft., needs rehab, most recent use—battalion headquarters bldg., off-site use only

Bldg. 4702

Fort Benning

Ft. Benning Co: Muscogee GA 31905-

Property No.: 21199720192

Status: Unutilized

Comment: 3690 sq. ft., needs rehab, most recent use—dining facility off-site use only

Bldgs. 4712-4713

Fort Benning

Ft. Benning Co: Muscogee GA 31905-

Property No.: 21199720193

Status: Unutilized

Comment: 1983 sq. ft. and 10270 sq. ft., needs rehab, most recent use—company headquarters bldg., off-site use only

Bldg. 305

Fort Benning

Ft. Benning Co: Muscogee GA 31905-

Property No.: 21199810268

Status: Unutilized

Comment: 4083 sq. ft., most recent use—recreation center, off-site use only

Bldg. 318

Fort Benning

Ft. Benning Co: Muscogee GA 31905-

Property No.: 21199810269

Status: Unutilized

Comment: 374 sq. ft., poor condition, most recent use—maint. shop, off-site use only

Bldg. 1792

Fort Benning

Ft. Benning Co: Muscogee GA 31905-

Property No.: 21199810274

Status: Unutilized

Comment: 10,200 sq. ft., most recent use—storage, off-site use only

Bldg. 1836

Fort Benning

Ft. Benning Co: Muscogee GA 31905-

Property No.: 21199810276

Status: Unutilized

Comment: 2998 sq. ft., most recent use—admin., off-site use only

Bldg. 4373

Fort Benning

Ft. Benning Co: Muscogee GA 31905-

Property No.: 21199810286

Status: Unutilized

Comment: 409 sq. ft., poor condition, most recent use—station bldg., off-site use only

Bldg. 4628

Fort Benning

Ft. Benning Co: Muscogee GA 31905-

Property No.: 21199810287

Status: Unutilized

Comment: 5483 sq. ft., most recent use—admin., off-site use only

Bldg. 92

Fort Benning

Co: Muscogee GA 31905-

Property No.: 21199830278

Status: Unutilized

Comment: 637 sq. ft., needs rehab, most recent use—admin., off-site use only

Bldg. 2445

Fort Benning

Co: Muscogee GA 31905-

Property No.: 21199830279

Status: Unutilized

Comment: 2385 sq. ft., needs rehab, most recent use—fire station, off-site use only

Bldg. 4232

Fort Benning

Co: Muscogee GA 31905-

Property No.: 21199830291

Status: Unutilized

Comment: 3720 sq. ft., needs rehab, most recent use—maint. bay, off-site use only

Bldg. 39720

Fort Gordon

Ft. Gordon Co: Richmond GA 30905-

Property No.: 21199930119

Status: Unutilized

Comment: 1520 sq. ft., concrete block, possible asbestos/lead paint, most recent use—office, off-site use only

Bldg. 492

Fort Benning

Ft. Benning Co: Muscogee GA 31905-

Property No.: 21199930120

Status: Unutilized

Comment: 720 sq. ft., most recent use—admin/maint, off-site use only

Bldg. 880

Fort Benning

Ft. Benning Co: Muscogee GA 31905-

Property No.: 21199930121

Status: Unutilized

Comment: 57,110 sq. ft., most recent use—instruction, off-site use only

Bldg. 1370

Fort Benning

Ft. Benning Co: Muscogee GA 31905-

Property No.: 21199930122

Status: Unutilized

Comment: 5204 sq. ft., most recent use—hdqts. bldg., off-site use only

Bldg. 2288

Fort Benning

Ft. Benning Co: Muscogee GA 31905-

Property No.: 21199930123

Status: Unutilized

Comment: 2481 sq. ft., most recent use—admin., off-site use only

Bldg. 2290

Fort Benning

Ft. Benning Co: Muscogee GA 31905-

Property No.: 21199930124

Status: Unutilized

Comment: 455 sq. ft., most recent use—storage, off-site use only

Bldg. 2293

Fort Benning

Ft. Benning Co: Muscogee GA 31905-

Property No.: 21199930125

Status: Unutilized

Comment: 2600 sq. ft., most recent use—hdqts. bldg., off-site use only

Bldg. 2297

Fort Benning

Ft. Benning Co: Muscogee GA 31905-

Property No.: 21199930126

Status: Unutilized

Comment: 5156 sq. ft., most recent use—admin.

Bldg. 2505

Fort Benning

Ft. Benning Co: Muscogee GA 31905-

Property No.: 21199930127

Status: Unutilized

Comment: 10,257 sq. ft., most recent use—repair shop, off-site use only

Bldg. 2508

Fort Benning

Ft. Benning Co: Muscogee GA 31905-

Property No.: 21199930128

Status: Unutilized

Comment: 2434 sq. ft., most recent use—storage, off-site use only

Bldg. 2815

Fort Benning

Ft. Benning Co: Muscogee GA 31905-

Property No.: 21199930129

Status: Unutilized

Comment: 2578 sq. ft., most recent use—hdqts. bldg., off-site use only

Bldg. 3815

Fort Benning

Ft. Benning Co: Muscogee GA 31905-

Property No.: 21199930130

Status: Unutilized

Comment: 7575 sq. ft., most recent use—storage, off-site use only

Bldg. 3816

Fort Benning

Ft. Benning Co: Muscogee GA 31905-

Property No.: 21199930131

Status: Unutilized

Comment: 7514 sq. ft., most recent use—storage, off-site use only

Bldg. 5886

Fort Benning

Ft. Benning Co: Muscogee GA 31905-

Property No.: 21199930134

Status: Unutilized

Comment: 67 sq. ft., most recent use—maint/storage, off-site use only

Bldgs. 5974-5978

Fort Benning

Ft. Benning Co: Muscogee GA 31905-

Property No.: 21199930135

Status: Unutilized

Comment: 400 sq. ft., most recent use—storage, off-site use only

Bldg. 5993

Fort Benning

Ft. Benning Co: Muscogee GA 31905-

Property No.: 21199930136

Status: Unutilized

Comment: 960 sq. ft., most recent use—storage, off-site use only

Bldg. 5994

Fort Benning

Ft. Benning Co: Muscogee GA 31905-

Property No.: 21199930137

Status: Unutilized

Comment: 2016 sq. ft., most recent use—storage, off-site use only

Bldg. T-1003

Fort Stewart

Hinesville Co: Liberty GA 31514-

Property No.: 21200030085

Status: Excess

Comment: 9267 sq. ft., poor condition, most recent use—admin., off-site use only

Bldgs. T-1005, T-1006, T-1007

Fort Stewart

Hinesville Co: Liberty GA 31514-

Property No.: 21200030086

Status: Excess

Comment: 9267 sq. ft., poor condition, most recent use—storage, off-site use only

Bldgs. T-1015, T-1016, T-1017

Fort Stewart

Hinesville Co: Liberty GA 31514-

Property No.: 21200030087

Status: Excess

Comment: 7496 sq ft., poor condition, most recent use—storage, off-site use only

Bldgs. T-1018, T-1019

Fort Stewart

Hinesville Co: Liberty GA 31514-

Property No.: 21200030088

Status: Excess

Comment: 9267 sq. ft., poor condition, most recent use—storage, off-site use only

Bldgs. T-1020, T-1021

Fort Stewart

Hinesville Co: Liberty GA 31514-

Property No.: 21200030089

Status: Excess

Comment: 9267 sq. ft., poor condition, most recent use—storage, off-site use only

Bldg. T-1022

Fort Stewart

Hinesville Co: Liberty GA 31514-

Property No.: 21200030090

Status: Excess

Comment: 9267 sq. ft., poor condition, most recent use—supply center, off-site use only

Bldg. T-1027

Fort Stewart

Hinesville Co: Liberty GA 31514-

Property No.: 21200030091

Status: Excess

Comment: 9024 sq ft., poor condition, most recent use—storage, off-site use only

Bldg. T-1028

Fort Stewart

Hinesville Co: Liberty GA 31514-

Property No.: 21200030092

Status: Excess

Comment: 7496 sq. ft., poor condition, most recent use—storage, off-site use only

Bldgs. T-1035, T-1036, T-1037

Fort Stewart

Hinesville Co: Liberty GA 31514-

Property No.: 21200030093

Status: Excess

Comment: 1626 sq ft., poor condition, most recent use—storage, off-site use only

Bldgs. T-1038, T-1039

Fort Stewart

Hinesville Co: Liberty GA 31514-

Property No.: 21200030094

Status: Excess

Comment: 1626 sq. ft., poor condition, most recent use—storage, off-site use only

Bldgs. T-1040, T-1042

Fort Stewart

Hinesville Co: Liberty GA 31514-

Property No.: 21200030095

Status: Excess

Comment: 1626 sq. ft., poor condition, most recent use—storage, off-site use only

Bldgs. T-1086, T-1087, T-1088

Fort Stewart

Hinesville Co: Liberty GA 31514-

Property No.: 21200030096

Status: Excess

Comment: 7680 sq. ft., poor condition, most recent use—storage, off-site use only

Bldg. 223

Fort Benning

Ft. Benning Co: Muscogee GA 31905-

Property No.: 21200040044

Status: Unutilized

Comment: 21,556 sq. ft., most recent use—gen. purpose

Bldg. 228

Fort Benning

Ft. Benning Co: Muscogee GA 31905-

Property No.: 21200040045

Status: Unutilized

Comment: 20,220 sq. ft., most recent use—gen. purpose

Bldg. 2051

Fort Benning

Ft. Benning Co: Muscogee GA 31905-

Property No.: 21200040046

Status: Unutilized

Comment: 6077 sq. ft., most recent use—storage

Bldg. 2053

Fort Benning

Ft. Benning Co: Muscogee GA 31905-

Property No.: 21200040047

Status: Unutilized

Comment: 14,520 sq. ft., most recent use—storage

Bldg. 2677

Fort Benning

Ft. Benning Co: Muscogee GA 31905-

Property No.: 21200040048

Status: Unutilized

Comment: 19,326 sq. ft., most recent use—maint. shop

Bldg. 02301

Fort Gordon

Ft. Gordon Co: Richmond GA 30905-

Property No.: 21200140075

Status: Unutilized

Comment: 8484 sq. ft., needs major rehab, potential asbestos/lead paint, most recent use—storage, off-site use only

Bldg. T0130

Fort Stewart

Hinesville Co: Liberty GA 31314-5136

Property No.: 21200230041

Status: Excess

Comment: 10,813 sq. ft., off-site use only

Bldg. T0157

Fort Stewart

Hinesville Co: Liberty GA 31314-5136

Property No.: 21200230042

Status: Excess

Comment: 1440 sq. ft., off-site use only

Bldg. T0251

Fort Stewart

Hinesville Co: Liberty GA 31314-5136

Property No.: 21200230043

Status: Excess

Comment: 27,254 sq. ft., off-site use only

Bldgs. T291, T292

Fort Stewart

Hinesville Co: Liberty GA 31314-5136

Property No.: 21200230044

Status: Excess

Comment: 5220 sq. ft. each, off-site use only

Bldg. T0295

Fort Stewart

Hinesville Co: Liberty GA 31314-5136

Property No.: 21200230045

Status: Excess

Comment: 5220 sq. ft., off-site use only

Bldg. T0470

Fort Stewart

Hinesville Co: Liberty GA 31314-5136

Property No.: 21200230046

Status: Excess

Comment: 27,254 sq. ft., off-site use only

Bldg. T1191

Fort Stewart

Hinesville Co: Liberty GA 31314-5136

Property No.: 21200230047

Status: Excess

Comment: 9386 sq. ft., off-site use only

Bldg. T1192

Fort Stewart

Hinesville Co: Liberty GA 31314-5136

Property No.: 21200230048

Status: Excess

Comment: 3992 sq. ft., off-site use only

Bldgs. 00064, 00065

Camp Frank D. Merrill

Dahlonega Co: Lumpkin GA 30597-

Property No.: 21200330108

Status: Unutilized

Comment: 648 sq. ft. each, concrete block, most recent use—water support treatment bldg., off-site use only

Land

Land (Railbed)

Fort Benning

Ft. Benning Co: Muscogee GA 31905-

Property No.: 21199440440

Status: Unutilized

Comment: 17.3 acres extending 1.24 miles, no known utilities potential

Hawaii

Building

P-88

Aliamanu Military Reservation

Honolulu Co: Honolulu HI 96818-

Property No.: 21199030324

Location: Approximately 600 feet from Main Gate on Aliamanu Drive

Status: Unutilized

Comment: 45,216 sq. ft. underground tunnel complex, pres. of asbestos clean-up required of contamination, use of respirator required by those entering property, use limitations

Bldg. T-337

Fort Shafter

Honolulu Co: Honolulu HI 96819-

Property No.: 21199640203

Status: Unutilized

Comment: 132 sq. ft., most recent use—storage, off-site use only

Bldg. 06508

Schofield Barracks

Wahiawa Co: HI 96786-

Property No.: 21200220106

Status: Unutilized

Comment: 1140 sq. ft., most recent use—office, off-site use only

Illinois

Building

Bldg. 54

Rock Island Arsenal

Rock Island Co: Rock Island IL 61299-

Property No.: 21199620666

Status: Unutilized

Comment: 2000 sq. ft., most recent use—oil storage, needs repair, off-site use only

Bldg. AR112

Sheridan Reserve

Arlington Heights Co: IL 60052-2475

Property No.: 21200110081

Status: Unutilized

Comment: 1000 sq. ft., off-site use only

Louisiana

Building

Bldg. 8423

Fort Polk

Ft. Polk Co: Vernon Parish LA 71459-

Property No.: 21199640528

Status: Underutilized

Comment: 4172 sq. ft., most recent use—barracks

Maryland

Building

Bldg. 2837

Fort George G. Meade

Ft. Meade Co: Anne Arundel MD 20755-5115

Property No.: 21200120101

Status: Unutilized

Comment: 7670 sq. ft., presence of asbestos/lead paint, most recent use—admin., off-site use only

Bldg. 00313

Aberdeen Proving Ground

Aberdeen Co: Harford MD 21005-5001

Property No.: 21200120104

Status: Unutilized

Comment: 983 sq. ft., most recent use—storage, off-site use only

Bldg. 00340

Aberdeen Proving Ground

Aberdeen Co: Harford MD 21005-5001

Property No.: 21200120105

Status: Unutilized

Comment: 384 sq. ft., most recent use—storage, off-site use only

Bldg. 0459B

Aberdeen Proving Ground

Aberdeen Co: Harford MD 21005-5001

Property No.: 21200120106

Status: Unutilized

Comment: 225 sq. ft., poor condition, most recent use—equipment bldg., off-site use only

Bldg. 00785

Aberdeen Proving Ground

Aberdeen Co: Harford MD 21005-5001

Property No.: 21200120107

Status: Unutilized

Comment: 160 sq. ft., poor condition, most recent use—shelter, off-site use only

Bldg. E3728

Aberdeen Proving Ground

Aberdeen Co: Harford MD 21005-5001

Property No.: 21200120109

Status: Unutilized

Comment: 2596 sq. ft., presence of asbestos/lead paint, most recent use—testing facility, off-site use only

Bldg. 05213

Aberdeen Proving Ground

Aberdeen Co: Harford MD 21005-5001

Property No.: 21200120112

Status: Unutilized

Comment: 200 sq. ft., poor condition, most recent use—storage, off-site use only

Bldg. E5239

Aberdeen Proving Ground

Aberdeen Co: Harford MD 21005-5001

Property No.: 21200120113

Status: Unutilized

Comment: 230 sq. ft., most recent use—storage, off-site use only

Bldg. E5317

Aberdeen Proving Ground

Aberdeen Co: Harford MD 21005-5001

Property No.: 21200120114

Status: Unutilized

Comment: 3158 sq. ft., presence of asbestos/lead paint, most recent use—lab, off-site use only

Bldg. E5637

Aberdeen Proving Ground

Aberdeen Co: Harford MD 21005-5001

Property No.: 21200120115

Status: Unutilized

Comment: 312 sq. ft., presence of asbestos/lead paint, most recent use—lab, off-site use only

Bldg. 503

Fort George G. Meade

Ft. Meade Co: Anne Arundel MD 20755-5115

Property No.: 21200130092

Status: Unutilized

Comment: 14,244 sq. ft., needs rehab, presence of asbestos/lead paint, most recent use—training, off-site use only

Bldg. 8481

Fort George G. Meade

Ft. Meade Co: Anne Arundel MD 20755-5115

Property No.: 21200130098

Status: Unutilized

Comment: 7718 sq. ft., needs rehab, presence of asbestos/lead paint, most recent use—heat plant, off-site use only

Bldg. 219

Ft. George G. Meade

Ft. Meade Co: Anne Arundel MD 20755-

Property No.: 21200140078

Status: Unutilized

Comment: 8142 sq. ft., presence of asbestos/lead paint, most recent use—admin., off-site use only

Bldg. 229

Ft. George G. Meade

Ft. Meade Co: Anne Arundel MD 20755-

Property No.: 21200140079

Status: Unutilized

Comment: 2250 sq. ft., presence of asbestos/lead paint, most recent use—admin., off-site use only

Bldg. 287

Ft. George G. Meade

Ft. Meade Co: Anne Arundel MD 20755-

Property No.: 21200140080

Status: Unutilized

Comment: 2892 sq. ft., presence of asbestos/lead paint, most recent use—storehouse, off-site use only

Bldg. 294

Ft. George G. Meade

Ft. Meade Co: Anne Arundel MD 20755-

Property No.: 21200140081

Status: Unutilized

Comment: 3148 sq. ft., presence of asbestos/lead paint, most recent use—entomology facility, off-site use only

Bldg. 949

Ft. George G. Meade

Ft. Meade Co: Anne Arundel MD 20755-

Property No.: 21200140083

Status: Unutilized

Comment: 2441 sq. ft., presence of asbestos/lead paint, most recent use—storehouse, off-site use only

Bldg. 979

Ft. George G. Meade

Ft. Meade Co: Anne Arundel MD 20755-

Property No.: 21200140084

Status: Unutilized

Comment: 2331 sq. ft., presence of asbestos/lead paint, most recent use—admin., off-site use only

Bldg. 1007

Ft. George G. Meade

Ft. Meade Co: Anne Arundel MD 20755-

Property No.: 21200140085

Status: Unutilized

Comment: 3108 sq. ft., presence of asbestos/lead paint, most recent use—storage, off-site use only

Bldg. 00546

Fort Meade

Ft. Meade Co: Anne Arundel MD 20755-

Property No.: 21200220109

Status: Unutilized

Comment: 5659 sq. ft., possible asbestos/lead paint, most recent use—admin., off-site use only

Bldg. 00939

Fort Meade

Ft. Meade Co: Anne Arundel MD 20755-

Property No.: 21200220110

Status: Unutilized

Comment: 8185 sq. ft., possible asbestos/lead paint, most recent use—admin., off-site use only

Bldg. 02207

Fort Meade

Ft. Meade Co: Anne Arundel MD 20755-

Property No.: 21200220112

Status: Unutilized

Comment: 6855 sq. ft., possible asbestos/lead paint, most recent use—storage, off-site use only

Bldg. 02271

Fort Meade

Ft. Meade Co: Anne Arundel MD 20755-

Property No.: 21200220114

Status: Unutilized

Comment: 10,080 sq. ft., possible asbestos/lead paint, most recent use—storage, off-site use only

Bldg. 04675

Fort Meade

Ft. Meade Co: Anne Arundel MD 20755-

Property No.: 21200220115

Status: Unutilized

Comment: 1710 sq. ft., possible asbestos/lead paint, most recent use—rental store, off-site use only

Bldg. 2050A

Fort George G. Meade

Fort Meade Co: Anne Arundel MD 20755-

Property No.: 21200230051

Status: Unutilized

Comment: 200 sq. ft., needs rehab, most recent use—storage, off-site use only

Bldg. 2214

Fort George G. Meade

Fort Meade Co: Anne Arundel MD 20755-

Property No.: 21200230054

Status: Unutilized

Comment: 7740 sq. ft., needs rehab, possible asbestos/lead paint, most recent use—storage, off-site use only

Bldg. 2217

Fort George G. Meade

Fort Meade Co: Anne Arundel MD 20755-

Property No.: 21200230055

Status: Unutilized

Comment: 7710 sq. ft., needs rehab, possible asbestos/lead paint, most recent use—admin/warehouse, off-site use only

Bldg. 2253

Fort George G. Meade

Fort Meade Co: Anne Arundel MD 20755-

Property No.: 21200230056

Status: Unutilized

Comment: 18,912 sq. ft., needs rehab, possible asbestos/lead paint, most recent use—vehicle maint. shop, off-site use only

Bldg. 2275

Fort George G. Meade

Fort Meade Co: Anne Arundel MD 20755-

Property No.: 21200230057

Status: Unutilized

Comment: 10,080 sq. ft., needs rehab, possible asbestos/lead paint, most recent use—warehouse, off-site use only

Bldg. 2276

Fort George G. Meade

Fort Meade Co: Anne Arundel MD 20755-

Property No.: 21200230058

Status: Unutilized

Comment: 10,080 sq. ft., needs rehab, possible asbestos/lead paint, most recent use—warehouse, off-site use only

Bldg. 2273

Ft. George G. Meade

Ft. Meade Co: MD 20755-5115

Property No.: 21200320105

Status: Unutilized

Comment: 54 sq. ft., most recent use—storage, off-site use only

Bldg. 2456

Ft. George G. Meade

Ft. Meade Co: MD 20755-5115

Property No.: 21200320106

Status: Unutilized

Comment: 4720 sq. ft., presence of asbestos/lead paint, most recent use—clinic, off-site use only

Bldg. 00375

Aberdeen Proving Grounds

Aberdeen Co: Harford MD 21005-

Property No.: 21200320107

Status: Unutilized

Comment: 64 sq. ft., most recent use—storage, off-site use only

Bldg. 0384A

Aberdeen Proving Grounds

Aberdeen Co: Harford MD 21005-

Property No.: 21200320108

Status: Unutilized

Comment: 130 sq. ft., most recent use—ordnance facility, off-site use only

Bldg. 00385

Aberdeen Proving Grounds

Aberdeen Co: Harford MD 21005-

Property No.: 21200320109

Status: Unutilized

Comment: 5517 sq. ft., most recent use—storage, off-site use only

Bldg. 0385A

Aberdeen Proving Grounds

Aberdeen Co: Harford MD 21005-

Property No.: 21200320110

Status: Unutilized

Comment: 944 sq. ft., off-site use only

Bldg. 00442

Aberdeen Proving Grounds

Aberdeen Co: Harford MD 21005-

Property No.: 21200320111

Status: Unutilized

Comment: 900 sq. ft., most recent use—storage, off-site use only

Bldg. 00443

Aberdeen Proving Grounds

Aberdeen Co: Harford MD 21005-

Property No.: 21200320112

Status: Unutilized

Comment: 1488 sq. ft., off-site use only

Bldg. 00523

Aberdeen Proving Grounds

Aberdeen Co: Harford MD 21005-

Property No.: 21200320113

Status: Unutilized

Comment: 3897 sq. ft., most recent use—paint shop, off-site use only

Bldg. 00524

Aberdeen Proving Grounds

Aberdeen Co: Harford MD 21005-

Property No.: 21200320114

Status: Unutilized

Comment: 240 sq. ft., most recent use—storage, off-site use only

Bldg. 0645A

Aberdeen Proving Grounds

Aberdeen Co: Harford MD 21005-

Property No.: 21200320115

Status: Unutilized

Comment: 64 sq. ft., most recent use—storage, off-site use only

Bldg. 00649

Aberdeen Proving Grounds

Aberdeen Co: Harford MD 21005-

Property No.: 21200320116

Status: Unutilized

Comment: 1079 sq. ft., most recent use—storage, off-site use only

Bldg. 00650

Aberdeen Proving Grounds

Aberdeen Co: Harford MD 21005-

Property No.: 21200320117

Status: Unutilized

Comment: 4215 sq. ft., most recent use—storage, off-site use only

Bldgs. 00654, 00655

Aberdeen Proving Grounds

Aberdeen Co: Harford MD 21005-

Property No.: 21200320118

Status: Unutilized

Comment: 1110 sq. ft., off-site use only

Bldg. 00657

Aberdeen Proving Grounds

Aberdeen Co: Harford MD 21005-

Property No.: 21200320119

Status: Unutilized

Comment: 1048 sq. ft., most recent use—bunker, off-site use only

Bldgs. 00679, 00705

Aberdeen Proving Grounds

Aberdeen Co: Harford MD 21005-

Property No.: 21200320120

Status: Unutilized

Comment: 119/100 sq. ft., most recent use—safety shelter, off-site use only

Bldg. 0700B

Aberdeen Proving Grounds

Aberdeen Co: Harford MD 21005-

Property No.: 21200320121

Status: Unutilized

Comment: 505 sq. ft., off-site use only

Bldg. 00741

Aberdeen Proving Grounds

Aberdeen Co: Harford MD 21005-

Property No.: 21200320122

Status: Unutilized

Comment: 894 sq. ft., most recent use—storage, off-site use only

Bldg. 00768

Aberdeen Proving Grounds

Aberdeen Co: Harford MD 21005-

Property No.: 21200320123

Status: Unutilized

Comment: 97 sq. ft., most recent use—observation bldg., off-site use only

Bldg. 00786

Aberdeen Proving Grounds

Aberdeen Co: Harford MD 21005-

Property No.: 21200320124

Status: Unutilized

Comment: 1600 sq. ft., most recent use—ordnance bldg., off-site use only

Bldgs. 00900, 00911

Aberdeen Proving Grounds

Aberdeen Co: Harford MD 21005-

Property No.: 21200320125

Status: Unutilized

Comment: 225/112 sq. ft., most recent use—safety shelter, off-site use only

Bldg. 01101

Aberdeen Proving Grounds

Aberdeen Co: Harford MD 21005-

Property No.: 21200320126

Status: Unutilized

Comment: 6435 sq. ft., most recent use—storage, off-site use only

Bldg. 1102A

Aberdeen Proving Grounds

Aberdeen Co: Harford MD 21005-

Property No.: 21200320127

Status: Unutilized

Comment: 1416 sq. ft., most recent use—storage, off-site use only

Bldg. 01113

Aberdeen Proving Grounds

Aberdeen Co: Harford MD 21005-

Property No.: 21200320128

Status: Unutilized

Comment: 1012 sq. ft., off-site use only

Bldgs. 01124, 01132

Aberdeen Proving Grounds

Aberdeen Co: Harford MD 21005-

Property No.: 21200320129

Status: Unutilized

Comment: 740/2448 sq. ft., most recent use—lab, off-site use only

Bldgs. 02373, 02378

Aberdeen Proving Grounds

Aberdeen Co: Harford MD 21005-

Property No.: 21200320130

Status: Unutilized

Comment: 8359 sq. ft., most recent use—training, off-site use only

Bldg. 03328

Aberdeen Proving Grounds

Aberdeen Co: Harford MD 21005-

Property No.: 21200320131

Status: Unutilized

Comment: 1628 sq. ft., most recent use—exchange, off-site use only

Bldg. 03512

Aberdeen Proving Grounds

Aberdeen Co: Harford MD

Property No.: 21200320132

Status: Unutilized

Comment: 10,944 sq. ft., most recent use—storage, off-site use only

Bldg. 03558

Aberdeen Proving Grounds

Aberdeen Co: Harford MD 21005-

Property No.: 21200320133

Status: Unutilized

Comment: 18,000 sq. ft., most recent use—storage, off-site use only

Bldgs. 05258, 05260

Aberdeen Proving Grounds

Aberdeen Co: Harford MD 21005-

Property No.: 21200320135

Status: Unutilized

Comment: 10067 sq. ft., most recent use—storage, off-site use only

Bldg. 05262

Aberdeen Proving Grounds

Aberdeen Co: Harford MD 21005-

Property No.: 21200320136

Status: Unutilized

Comment: 864 sq. ft., most recent use—storage, off-site use only

Bldg. 05608

Aberdeen Proving Grounds

Aberdeen Co: Harford MD 21005-

Property No.: 21200320137

Status: Unutilized

Comment: 1100 sq. ft., most recent use—maint bldg., off-site use only

Bldg. E1387

Aberdeen Proving Grounds

Aberdeen Co: Harford MD 21005-

Property No.: 21200320138

Status: Unutilized

Comment: 433 sq. ft., most recent use—woodworking shop, off-site use only

Bldg. E1415

Aberdeen Proving Grounds

Aberdeen Co: Harford MD 21005-

Property No.: 21200320139

Status: Unutilized

Comment: 730 sq. ft., most recent use—lab, off-site use only

Bldg. E1416

Aberdeen Proving Grounds

Aberdeen Co: Harford MD 21005-

Property No.: 21200320140

Status: Unutilized

Comment: 120 sq. ft., most recent use—safety shelter, off-site use only

Bldgs. E1420, E1429

Aberdeen Proving Grounds

Aberdeen Co: Harford MD 21005-

Property No.: 21200320141

Status: Unutilized

Comment: 220/150 sq. ft., most recent use—test range/storage, off-site use only

6 Bldgs.

Aberdeen Proving Grounds

Aberdeen Co: Harford MD 21005-

Property No.: 21200320142

Location: E1432, E1444, E1446, E1447, E1449, E1453

Status: Unutilized

Comment : various sq. ft., most recent use—range shelter, off-site use only

Bldgs. E1481, E1482

Aberdeen Proving Grounds

Aberdeen Co: Harford MD 21005-

Property No.: 21200320143

Status: Unutilized

Comment: 100 sq. ft., most recent use—observation bldg., off-site use only

Bldg. E1484

Aberdeen Proving Grounds

Aberdeen Co: Harford MD 21005-

Property No.: 21200320144

Status: Unutilized

Comment: 256 sq. ft., most recent use—admin., off-site use only

Bldgs. E2363, E2610

Aberdeen Proving Grounds

Aberdeen Co: Harford MD 21005-

Property No.: 21200320145

Status: Unutilized

Comment: 138/133 sq. ft., most recent use—storage, off-site use only

Bldgs. E3328, E3540, E4261

Aberdeen Proving Grounds

Aberdeen Co: Harford MD 21005-

Property No.: 21200320146

Status: Unutilized

Comment : various sq. ft., most recent use—test facilities, off-site use only

Bldg. E5108

Aberdeen Proving Grounds

Aberdeen Co: Harford MD 21005-

Property No.: 21200320147

Status: Unutilized

Comment: 5155 sq. ft., most recent use—recreation center, off-site use only

Bldg. E5483

Aberdeen Proving Grounds

Aberdeen Co: Harford MD 21005-

Property No.: 21200320148

Status: Unutilized

Comment: 2140 sq. ft., most recent use—vehicle storage, off-site use only

Bldg. E5602

Aberdeen Proving Grounds

Aberdeen Co: Harford MD 21005-

Property No.: 21200320149

Status: Unutilized

Comment: 238 sq. ft., most recent use—storage, off-site use only

Bldg. E5645

Aberdeen Proving Grounds

Aberdeen Co: Harford MD 21005-

Property No.: 21200320150

Status: Unutilized

Comment: 548 sq. ft., most recent use—storage, off-site use only

Bldg. E7228

Aberdeen Proving Grounds

Aberdeen Co: Harford MD 21005-

Property No.: 21200320151

Status: Unutilized

Comment: 441 sq. ft., off-site use only

Bldg. 2728

Fort Meade

Ft. Meade Co: Anne Arundel MD 20755-

Property No.: 21200330109

Status: Unutilized

Comment: 4072 sq. ft., most recent use—storage, off-site use only

Bldgs. 00264, 00265

Aberdeen Proving Grounds

Aberdeen Co: Harford MD 21005-

Property No.: 21200330110

Status: Unutilized

Comment: 1322/1048 sq. ft., needs rehab, most recent use—storage, off-site use only

Bldg. 00435

Aberdeen Proving Grounds

Aberdeen Co: Harford MD 21005-

Property No.: 21200330111

Status: Unutilized

Comment: 1191 sq. ft., needs rehab, most recent use—storage, off-site use only

Bldg. 0449A

Aberdeen Proving Grounds

Aberdeen Co: Harford MD 21005-

Property No.: 21200330112

Status: Unutilized

Comment: 143 sq. ft., needs rehab, most recent use—substation switch bldg., off-site use only

Bldgs. 00458, 00464

Aberdeen Proving Grounds

Aberdeen Co: Harford MD 21005-

Property No.: 21200330113

Status: Unutilized

Comment: 900/2647 sq. ft., needs rehab, most recent use—storage, off-site use only

Bldg. 0460

Aberdeen Proving Grounds

Aberdeen Co: Harford MD 21005-

Property No.: 21200330114

Status: Unutilized

Comment: 1800 sq. ft., needs rehab, most recent use—electrical EQ bldg., off-site use only

Bldgs. 00506, 00509, 00605

Aberdeen Proving Grounds

Aberdeen Co: Harford MD 21005-

Property No.: 21200330115

Status: Unutilized

Comment: 38,690/1137 sq. ft., needs rehab, most recent use—storage, off-site use only

Bldg. 00724

Aberdeen Proving Ground

Aberdeen Co: Harford MD 21005-

Property No.: 21200330116

Status: Unutilized

Comment: off-site use only

Bldgs. 00728, 00784

Aberdeen Proving Ground

Aberdeen Co: Harford MD 21005-

Property No.: 21200330117

Status: Unutilized

Comment: 2100/232 sq. ft., needs rehab, most recent use—storage, off-site use only

Bldg. 00914

Aberdeen Proving Grounds

Aberdeen Co: Harford MD 21005-

Property No.: 21200330118

Status: Unutilized

Comment : needs rehab, most recent use—safety shelter, off-site use only

Bldg. 00915

Aberdeen Proving Grounds

Aberdeen Co: Harford MD 21005-

Property No.: 21200330119

Status: Unutilized

Comment: 247 sq. ft., needs rehab, most recent use—storage, off-site use only

Bldg. 00931

Aberdeen Proving Grounds

Aberdeen Co: Harford MD 21005-

Property No.: 21200330120

Status: Unutilized

Comment: 1400 sq. ft., needs rehab, off-site use only

Bldg. 01050

Aberdeen Proving Grounds

Aberdeen Co: Harford MD 21005-

Property No.: 21200330121

Status: Unutilized

Comment: 1050 sq. ft., needs rehab, most recent use—transmitter bldg., off-site use only

Bldg. 1101A

Aberdeen Proving Grounds

Aberdeen Co: Harford MD 21005-

Property No.: 21200330122

Status: Unutilized

Comment: 1800 sq. ft., needs rehab, most recent use—ordnance bldg., off-site use only

Bldg. 01169

Aberdeen Proving Grounds

Aberdeen Co: Harford MD 21005-

Property No.: 21200330123

Status: Unutilized

Comment: 440 sq. ft., needs rehab, most recent use—admin., off-site use only

Bldg. 01170

Aberdeen Proving Grounds

Aberdeen Co: Harford MD 21005-

Property No.: 21200330124

Status: Unutilized

Comment: 600 sq. ft., needs rehab, most recent use—lab test bldg., off-site use only

Bldg. 01171

Aberdeen Proving Grounds

Aberdeen Co: Harford MD 21005-

Property No.: 21200330125

Status: Unutilized

Comment: 2412 sq. ft., needs rehab, most recent use—changing facility, off-site use only

Bldg. 01189

Aberdeen Proving Grounds

Aberdeen Co: Harford MD 21005-

Property No.: 21200330126

Status: Unutilized

Comment: 800 sq. ft., needs rehab, most recent use—range bldg., off-site use only

Bldg. E1413

Aberdeen Proving Grounds

Aberdeen Co: Harford MD 21005-

Property No.: 21200330127

Status: Unutilized

Comment : needs rehab, most recent use—observation tower, off-site use only

Bldgs. E1418, E2148

Aberdeen Proving Grounds

Aberdeen Co: Harford MD 21005-

Property No.: 21200330128

Status: Unutilized

Comment: 836/1092 sq. ft., needs rehab, most recent use—storage, off-site use only

Bldg. E1486

Aberdeen Proving Grounds

Aberdeen Co: Harford MD 21005-

Property No.: 21200330129

Status: Unutilized

Comment: 388 sq. ft., needs rehab, most recent use—ordnance facility, off-site use only

Bldg. E2314

Aberdeen Proving Grounds

Aberdeen Co: Harford MD 21005-

Property No.: 21200330130

Status: Unutilized

Comment: 11,279 sq. ft., needs rehab, most recent use—high explosive bldg., off-site use only

Bldgs. 02350, 02357

Aberdeen Proving Grounds

Aberdeen Co: Harford MD 21005-

Property No.: 21200330131

Status: Unutilized

Comment: 163/920 sq. ft., needs rehab, most recent use—storage, off-site use only

Bldg. E2350A

Aberdeen Proving Grounds

Aberdeen Co: Harford MD 21005-

Property No.: 21200330132

Status: Unutilized

Comment: 325 sq. ft., need rehab, most recent use—oil storage, off-site use only

Bldg. 2456

Aberdeen Proving Grounds

Aberdeen Co: Harford MD 21005-

Property No.: 21200330133

Status: Unutilized

Comment: 4720 sq. ft., needs rehab, presence of asbestos/lead paint, most recent use—admin., off-site use only

Bldg. E3175

Aberdeen Proving Grounds

Aberdeen Co: Harford MD 21005-

Property No.: 21200330134

Status: Unutilized

Comment: 1296 sq. ft., needs rehab, most recent use—hazard bldg., off-site use only

4 Bldgs.

Aberdeen Proving Grounds

Aberdeen Co: Harford MD 21005-

Property No.: 21200330135

Location: E3224, E3228, E3230, E3232, E3234

Status: Unutilized

Comment: sq. ft. varies, needs rehab, most recent use—lab test bldgs., off-site use only

Bldg. E3241

Aberdeen Proving Grounds

Aberdeen Co: Harford MD 21005-

Property No.: 21200330136

Status: Unutilized

Comment: 592 sq. ft., needs rehab, most recent use—medical res bldg., off-site use only

Bldgs. E3265, E3266

Aberdeen Proving Grounds

Aberdeen Co: Harford MD 21005-

Property No.: 21200330137

Status: Unutilized

Comment: 5509/5397 sq. ft., needs rehab, most recent use—lab test bldg., off-site use only

Bldgs. E3269, E3270

Aberdeen Proving Grounds

Aberdeen Co: Harford MD 21005-

Property No.: 21200330138

Status: Unutilized

Comment: 200/1200 sq. ft., needs rehab, most recent use—flam. storage, off-site use only

Bldg. E3300

Aberdeen Proving Grounds

Aberdeen Co: Harford MD 21005-

Property No.: 21200330139

Status: Unutilized

Comment: 44,352 sq. ft., needs rehab, most recent use—chemistry lab, off-site use only

Bldg. E3320

Aberdeen Proving Grounds

Aberdeen Co: Harford MD 21005-

Property No.: 21200330140

Status: Unutilized

Comment: 50,750 sq. ft., needs rehab, most recent use—admin., off-site use only

Bldg. E3322

Aberdeen Proving Grounds

Aberdeen Co: Harford MD 21005-

Property No.: 21200330141

Status: Unutilized

Comment: 5906 sq. ft., needs rehab, most recent use—storage, off-site use only

Bldg. E3326

Aberdeen Proving Grounds

Aberdeen Co: Harford MD 21005-

Property No.: 21200330142

Status: Unutilized

Comment: 2184 sq. ft., needs rehab, most recent use—admin., off-site use only

5 Bldgs.

Aberdeen Proving Grounds

Aberdeen Co: Harford MD 21005-

Property No.: 21200330143

Location: E3329, E3334, E3344, E3350, E3370

Status: Unutilized

Comment: sq. ft. varies, needs rehab, most recent use—lab test bldgs., off-site use only

Bldg. E3335

Aberdeen Proving Grounds

Aberdeen Co: Harford MD 21005-

Property No.: 21200330144

Status: Unutilized

Comment: 400 sq. ft., needs rehab, most recent use—storage, off-site use only

Bldgs. E3360, E3362, E3464

Aberdeen Proving Grounds

Aberdeen Co: Harford MD 21005-

Property No.: 21200330145

Status: Unutilized

Comment: 3588/236 sq. ft., needs rehab, most recent use—storage, off-site use only

Bldg. E3514

Aberdeen Proving Grounds

Aberdeen Co: Harford MD 21005-

Property No.: 21200330146

Status: Unutilized

Comment: 4416 sq. ft., needs rehab, most recent use—admin., off-site use only

Bldgs. E3517, E3525

Aberdeen Proving Grounds

Aberdeen Co: Harford MD 21005-

Property No.: 21200330147

Status: Unutilized

Comment: 1001/2175 sq. ft., needs rehab, most recent use—nonmet matl facility, off-site use only

Bldg. E3542

Aberdeen Proving Grounds

Aberdeen Co: Harford MD 21005-

Property No.: 21200330148

Status: Unutilized

Comment: 1146 sq. ft., needs rehab, most recent use—lab test bldg., off-site use only

Bldgs. 03554, 03556

Aberdeen Proving Grounds

Aberdeen Co: Harford MD 21005-

Property No.: 21200330149

Status: Unutilized

Comment: 18,000/9,000 sq. ft., needs rehab, most recent use—storage, off-site use only

Bldgs. E3863, E3864, E4415

Aberdeen Proving Grounds

Aberdeen Co: Harford MD 21005-

Property No.: 21200330150

Status: Unutilized

Comment: sq. ft. varies needs rehab, most recent use—admin., off-site use only

Bldg. E4420

Aberdeen Proving Grounds

Aberdeen Co: Harford MD 21005-

Property No.: 21200330151

Status: Unutilized

Comment: 14,997 sq. ft., needs rehab, most recent use—police bldg., off-site use only

Bldg. E4733

Aberdeen Proving Grounds

Aberdeen Co: Harford MD 21005-

Property No.: 21200330152

Status: Unutilized

Comment: 252 sq. ft., needs rehab, most recent use—flammable storage, off-site use only

Bldg. E4734

Aberdeen Proving Grounds

Aberdeen Co: Harford MD 21005-

Property No.: 21200330153

Status: Unutilized

Comment: 1114 sq. ft., needs rehab, most recent use—private club, off-site use only

4 Bldgs.

Aberdeen Proving Grounds

Aberdeen Co: Harford MD 21005-

Property No.: 21200330154

Location: E5005, E5049, E5050, E5051

Status: Unutilized

Comment: sq. ft. varies, needs rehab, most recent use—storage, off-site use only

Bldg. E5068

Aberdeen Proving Grounds

Aberdeen Co: Harford MD 21005-

Property No.: 21200330155

Status: Unutilized

Comment: 1200 sq. ft., needs rehab, most recent use—fire station, off-site use only

4 Bldgs.

Aberdeen Proving Grounds

Aberdeen Co: Harford MD 21005-

Property No.: 21200330156

Location: E5107, E5181, E5182, E5269

Status: Unutilized

Comment: sq. ft. varies, needs rehab, most recent use—storage, off-site use only

Bldgs. E5329, E5374

Aberdeen Proving Grounds

Aberdeen Co: Harford MD 21005-

Property No.: 21200330157

Status: Unutilized

Comment: 1001/308 sq. ft., needs rehab, most recent use—fuel POL bldg., off-site use only

Bldgs. E5425, 05426

Aberdeen Proving Grounds

Aberdeen Co: Harford MD 21005-

Property No.: 21200330158

Status: Unutilized

Comment: 1363/3888 sq. ft., needs rehab, most recent use—storage, off-site use only

Bldg. 05446

Aberdeen Proving Grounds

Aberdeen Co: Harford MD 21005-

Property No.: 21200330159

Status: Unutilized

Comment: 1991 sq. ft., needs rehab, most recent use—admin., off-site use only

Bldg. 05447

Aberdeen Proving Grounds

Aberdeen Co: Harford MD 21005-

Property No.: 21200330160

Status: Unutilized

Comment: 2464 sq. ft., needs rehab, most recent use—storage, off-site use only

Bldgs. 05448, 05449

Aberdeen Proving Grounds

Aberdeen Co: Harford MD 21005-

Property No.: 21200330161

Status: Unutilized

Comment: 6431 sq. ft., needs rehab, most recent use—enlisted UHP, off-site use only

Bldg. 05450

Aberdeen Proving Grounds

Aberdeen Co: Harford MD 21005-

Property No.: 21200330162

Status: Unutilized

Comment: 2730 sq. ft., needs rehab, most recent use—admin., off-site use only

Bldgs. 05451, 05455

Aberdeen Proving Grounds

Aberdeen Co: Harford MD 21005-

Property No.: 21200330163

Status: Unutilized

Comment: 2730/6431 sq. ft., needs rehab, most recent use—storage, off-site use only

Bldg. 05453

Aberdeen Proving Grounds

Aberdeen Co: Harford MD 21005-

Property No.: 21200330164

Status: Unutilized

Comment: 6431 sq. ft., needs rehab, most recent use—admin., off-site use only

Bldgs. 05456, 05459, 05460

Aberdeen Proving Grounds

Aberdeen Co: Harford MD 21005-

Property No.: 21200330165

Status: Unutilized

Comment: 6431 sq. ft., needs rehab, most recent use—enlisted bldg., off-site use only

Bldgs. 05457, 05458

Aberdeen Proving Grounds

Aberdeen Co: Harford MD 21005-

Property No.: 21200330166

Status: Unutilized

Comment: 2730 sq. ft., needs rehab, most recent use—admin., off-site use only

Bldg. E5609

Aberdeen Proving Grounds

Aberdeen Co: Harford MD 21005-

Property No.: 21200330167

Status: Unutilized

Comment: 2053 sq. ft., needs rehab, most recent use—storage, off-site use only

Bldg. E5611

Aberdeen Proving Grounds

Aberdeen Co: Harford MD 21005-

Property No.: 21200330168

Status: Unutilized

Comment: 11,242 sq. ft., needs rehab, most recent use—hazard bldg., off-site use only

Bldg. E5634

Aberdeen Proving Grounds

Aberdeen Co: Harford MD 21005-

Property No.: 21200330169

Status: Unutilized

Comment: 200 sq. ft., needs rehab, most recent use—flammable storage, off-site use only

Bldgs. E5648, E5697

Aberdeen Proving Grounds

Aberdeen Co: Harford MD 21005-

Property No.: 21200330170

Status: Unutilized

Comment: 6802/2595 sq. ft., needs rehab, most recent use—lab test bldg., off-site use only

Bldg. E5654

Aberdeen Proving Grounds

Aberdeen Co: Harford MD 21005-

Property No.: 21200330171

Status: Unutilized

Comment: 21,532 sq. ft., needs rehab, most recent use—storage, off-site use only

Bldg. E5779

Aberdeen Proving Grounds

Aberdeen Co: Harford MD 21005-

Property No.: 21200330172

Status: Unutilized

Comment: 174 sq. ft., needs rehab, most recent use—wash rack bldg., off-site use only

Bldgs. E5782, E5880

Aberdeen Proving Grounds

Aberdeen Co: Harford MD 21005-

Property No.: 21200330173

Status: Unutilized

Comment: 510/1528 sq. ft., needs rehab, most recent use—flammable storage, off-site use only

Bldg. E5854

Aberdeen Proving Grounds

Aberdeen Co: Harford MD 21005-

Property No.: 21200330174

Status: Unutilized

Comment: 5166 sq. ft., needs rehab, most recent use—eng/MTN bldg., off-site use only

Bldgs. E5870, E5890

Aberdeen Proving Grounds

Aberdeen Co: Harford MD 21005-

Property No.: 21200330175

Status: Unutilized

Comment: 1192/11,279 sq. ft., needs rehab, most recent use—storage, off-site use only

Bldg. E5942

Aberdeen Proving Grounds

Aberdeen Co: Harford MD 21005-

Property No.: 21200330176

Status: Unutilized

Comment: 2147 sq. ft., needs rehab, most recent use—igloo storage, off-site use only

Bldgs. E5952, E5953

Aberdeen Proving Grounds

Aberdeen Co: Harford MD 21005-

Property No.: 21200330177

Status: Unutilized

Comment: 100/24 sq. ft., needs rehab, most recent use—compressed air bldg., off-site use only

Bldgs. E7401, E7402

Aberdeen Proving Grounds

Aberdeen Co: Harford MD 21005-

Property No.: 21200330178

Status: Unutilized

Comment: 256/440 sq. ft., needs rehab, most recent use—storage, off-site use only

Bldg. E7407, E7408

Aberdeen Proving Grounds

Aberdeen Co: Harford MD 21005-

Property No.: 21200330179

Status: Unutilized

Comment: 1078/762 sq. ft., needs rehab, most recent use—decon facility, off-site use only

Bldg. E7500

Aberdeen Proving Grounds

Aberdeen Co: Harford MD 21005-

Property No.: 21200330180

Status: Unutilized

Comment: 256 sq. ft., needs rehab, most recent use—changing bldg., off-site use only

Bldgs. E7501, E7502

Aberdeen Proving Grounds

Aberdeen Co: Harford MD 21005-

Property No.: 21200330181

Status: Unutilized

Comment: 256/77 sq. ft., needs rehab, most recent use—storage, off-site use only

Bldg. E7931

Aberdeen Proving Grounds

Aberdeen Co: Harford MD 21005-

Property No.: 21200330182

Status: Unutilized

Comment: needs rehab, most recent use—sewer treatment, off-site use only

Missouri

Building

Bldg. T2171

Fort Leonard Wood

Ft. Leonard Wood Co: Pulaski MO 65473-5000

Property No.: 21199340212

Status: Unutilized

Comment: 1296 sq. ft., 1-story wood frame, most recent use—administrative, no handicap fixtures, lead base paint, off-site use only

Bldg. T1497

Fort Leonard Wood

Ft. Leonard Wood Co: Pulaski MO 65473-5000

Property No.: 21199420441

Status: Underutilized

Comment: 4720 sq. ft., 2-story, presence of lead base paint, most recent use—admin/gen. purpose, off-site use only

Bldg. T2139

Fort Leonard Wood

Ft. Leonard Wood Co: Pulaski MO 65473-5000

Property No.: 21199420446

Status: Underutilized

Comment: 3663 sq. ft., 1-story, presence of lead base paint, most recent use—admin/gen. purpose, off-site use only

Bldg. T-2191

Fort Leonard Wood

Ft. Leonard Wood Co: Pulaski MO 65473-5000

Property No.: 21199440334

Status: Excess

Comment: 4720 sq. ft., 2 story wood frame, off-site removal only, to be vacated 8/95, lead based paint, most recent use—barracks

Bldg. T-2197

Fort Leonard Wood

Ft. Leonard Wood Co: Pulaski MO 65473-5000

Property No.: 21199440335

Status: Excess

Comment: 4720 sq. ft., 2 story wood frame, off-site removal only, to be vacated 8/95, lead based paint, most recent use—barracks

Bldg. T2385

Fort Leonard Wood

Ft. Leonard Wood Co: Pulaski MO 65473-

Property No.: 21199510115

Status: Excess

Comment: 3158 sq. ft., 1-story, wood frame, most recent use—admin., to be vacated 8/95, off-site use only

Bldg. 1650

Fort Leonard Wood

Ft. Leonard Wood Co: Pulaski MO 65473-5000

Property No.: 21199810311

Status: Unutilized

Comment: 1676 sq. ft., presence of asbestos/lead paint, most recent use—union hall, off-site use only

Bldg. 2170

Fort Leonard Wood

Ft. Leonard Wood Co: Pulaski MO 65473-5000

Property No.: 21199810313

Status: Unutilized

Comment: 1296 sq. ft., presence of asbestos/lead paint, most recent use—admin., off-site use only

Bldg. 2167

Fort Leonard Wood

Ft. Leonard Wood Co: Pulaski MO 65473-5000

Property No.: 21199820179

Status: Unutilized

Comment: 1296 sq. ft., presence of asbestos/lead paint, most recent use—admin., off-site use only

Bldgs. 2169, 2181, 2182, 2183

Fort Leonard Wood

Ft. Leonard Wood Co: Pulaski MO 65473-5000

Property No.: 21199820180

Status: Unutilized

Comment: 4720 sq. ft., presence of asbestos/lead paint, most recent use—barracks, off-site use only

Bldg. 2186

Fort Leonard Wood

Ft. Leonard Wood Co: Pulaski MO 65473-5000

Property No.: 21199820181

Status: Unutilized

Comment: 1296 sq. ft., presence of asbestos/lead paint, most recent use—admin., off-site use only

Bldg. 2187

Fort Leonard Wood

Ft. Leonard Wood Co: Pulaski MO 65473-5000

Property No.: 21199820182

Status: Unutilized

Comment: 2892 sq. ft., presence of asbestos/lead paint, most recent use—dayroom, off-site use only

Bldgs. 2192, 2196, 2198

Fort Leonard Wood

Ft. Leonard Wood Co: Pulaski MO 65473-5000

Property No.: 21199820183

Status: Unutilized

Comment: 4720 sq. ft., presence of asbestos/lead paint, most recent use—barracks, off-site use only

Montana

Building

Bldg. 00405

Fort Harrison

Ft. Harrison Co: Lewis/Clark MT 59636-

Property No.: 21200130099

Status: Unutilized

Comment: 3467 sq. ft., most recent use—storage, security limitations

Bldg. T0066

Fort Harrison

Ft. Harrison Co: Lewis/Clark MT 59636-

Property No.: 21200130100

Status: Unutilized

Comment: 528 sq. ft., needs rehab, presence of asbestos, security limitations

New Jersey

Building

Bldg. 178

Armament R&D Engineering Center

Picatinny Arsenal Co: Morris NJ 07806-5000

Property No.: 21199740312

Status: Unutilized

Comment: 2067 sq. ft., most recent use—research, off-site use only

Bldg. 732

Armament R&D Engineering Center

Picatinny Arsenal Co: Morris NJ 07806-5000

Property No.: 21199740315

Status: Unutilized

Comment: 9077 sq. ft., needs rehab, most recent use—storage, off-site use only

Bldg. 816C

Armament R, D, & Eng. Center

Picatinny Arsenal Co: Morris NJ 07806-5000

Property No.: 21200130103

Status: Unutilized

Comment: 144 sq. ft., most recent use—storage, off-site use only

New Mexico

Building

Bldg. 34198

White Sands Missile Range

Dona Ana Co: NM 88002-

Property No.: 21200230062

Status: Excess

Comment: 107 sq. ft., most recent use—security, off-site use only

New York

Building

Bldg. T-181

Fort Drum

Ft. Drum Co: Jefferson NY 13602-

Property No.: 21200130129

Status: Unutilized

Comment: 3151 sq. ft., needs rehab, most recent use—housing mnt., off-site use only

Bldg. T-201

Fort Drum

Ft. Drum Co: Jefferson NY 13602-

Property No.: 21200130131

Status: Unutilized

Comment: 2305 sq. ft., needs rehab, most recent use—admin., off-site use only

Bldg. T-203

Fort Drum

Ft. Drum Co: Jefferson NY 13602-

Property No.: 21200130132

Status: Unutilized

Comment: 2284 sq. ft., needs rehab, most recent use—admin., off-site use only

Bldg. T-252

Fort Drum

Ft. Drum Co: Jefferson NY 13602-

Property No.: 21200130133

Status: Unutilized

Comment: 4720 sq. ft., needs rehab, most recent use—housing, off-site use only

Bldgs. T-253, T-256, T-257

Fort Drum

Ft. Drum Co: Jefferson NY 13602-

Property No.: 21200130134

Status: Unutilized

Comment: 4720 sq. ft., needs rehab, most recent use—housing, off-site use only

Bldgs. T-271, T-272, T-273

Fort Drum

Ft. Drum Co: Jefferson NY 13602-

Property No.: 21200130135

Status: Unutilized

Comment: 4720 sq. ft., needs rehab, most recent use—housing, off-site use only

Bldg. T-274

Fort Drum

Ft. Drum Co: Jefferson NY 13602-

Property No.: 21200130136

Status: Unutilized

Comment: 2750 sq. ft., needs rehab, most recent use—BN HQ, off-site use only

Bldgs. T-276, T-277, T-278

Fort Drum

Ft. Drum Co: Jefferson NY 13602-

Property No.: 21200130137

Status: Unutilized

Comment: 4720 sq. ft., needs rehab, most recent use—housing, off-site use only

Bldg. T-1030

Fort Drum

Ft. Drum Co: Jefferson NY 13602-

Property No.: 21200130139

Status: Unutilized

Comment: 15606 sq. ft., needs rehab, most recent use—simulator bldg., off-site use only

Bldg. P-2159

Fort Drum

Ft. Drum Co: Jefferson NY 13602-

Property No.: 21200130140

Status: Unutilized

Comment: 1948 sq. ft., needs rehab, most recent use—waste/water treatment, off-site use only

Bldg. T-2443

Fort Drum

Ft. Drum Co: Jefferson NY 13602-

Property No.: 21200130142

Status: Unutilized

Comment: 793 sq. ft., needs rehab, most recent use—vet facility, off-site use only

Bldgs. T-401, T-403

Fort Drum

Ft. Drum Co: Jefferson NY 13602-

Property No.: 21200210042

Status: Unutilized

Comment: 2305/2284 sq. ft., needs repair, most recent use—battalion hq bldg., off-site use only

Bldgs. T-404, T-406, T-407

Fort Drum

Ft. Drum Co: Jefferson NY 13602-

Property No.: 21200210043

Status: Unutilized

Comment: 2000/1144 sq. ft., needs repair, most recent use—Co Hq Bldg., off-site use only

Bldg. T-430

Fort Drum

Ft. Drum Co: Jefferson NY 13602-

Property No.: 21200210044

Status: Unutilized

Comment: 2731 sq. ft., needs repair, most recent use—Co Hq Bldg., off-site use only

4 Bldgs.

Fort Drum

T-431, T-432, T-433, T-434

Ft. Drum Co: Jefferson NY 13602-

Property No.: 21200210045

Status: Unutilized

Comment: 1144 sq. ft., needs repair, most recent use—Co Hq Bldg., off-site use only

Bldg. T-435

Fort Drum

Ft. Drum Co: Jefferson NY 13602-

Property No.: 21200210046

Status: Unutilized

Comment: 2731 sq. ft., needs repair, most recent use—Co Hq Bldg., off-site use only

Bldgs. T-437, T-438

Fort Drum

Ft. Drum Co: Jefferson NY 13602-

Property No.: 21200210047

Status: Unutilized

Comment: 1144 sq. ft., needs repair, most recent use—Co Hq Bldg., off-site use only

Bldgs. T-439, T-460

Fort Drum

Ft. Drum Co: Jefferson NY 13602-

Property No.: 21200210048

Status: Unutilized

Comment: 2588/2734 sq. ft., needs repair, most recent use—Co Hq Bldg., off-site use only

4 Bldgs.

Fort Drum

T-461, T-462, T-463, T-464

Ft. Drum Co: Jefferson NY 13602-

Property No.: 21200210049

Status: Unutilized

Comment: 1144 sq. ft., needs repair, most recent use—Co Hq Bldg., off-site use only

Bldg. T-465

Fort Drum

Ft. Drum Co: Jefferson NY 13602-

Property No.: 21200210050

Status: Unutilized

Comment: 2734 sq. ft., needs repair, most recent use—Co Hq Bldg., off-site use only

Bldgs. T-405, T-408

Fort Drum

Ft. Drum Co: Jefferson NY 13602-

Property No.: 21200210051

Status: Unutilized

Comment: 1296 sq. ft., needs repair, most recent use—storage, off-site use only

6 Bldgs.

Fort Drum

T-410, T-411, T-412, T-416, T-417, T-418

Ft. Drum Co: Jefferson NY 13602-

Property No.: 21200210052

Status: Unutilized

Comment: 4720 sq. ft., needs repair, most recent use—enlisted barracks AN TR, off-site use only

Bldgs. T-421, T-422

Fort Drum

Ft. Drum Co: Jefferson NY 13602-

Property No.: 21200210053

Status: Unutilized

Comment: 2510 sq. ft., needs repair, most recent use—enlisted barracks AN TR, off-site use only

Bldgs. T-423, T-424

Fort Drum

Ft. Drum Co: Jefferson NY 13602-

Property No.: 21200210054

Status: Unutilized

Comment: 4720 sq. ft., needs repair, most recent use—enlisted barracks AN TR, off-site use only

7 Bldgs.

Fort Drum

T-441, T-442, T-443, T-444, T-446-T-448

Ft. Drum Co: Jefferson NY 13602-

Property No.: 21200210055

Status: Unutilized

Comment: 4720 sq. ft., needs repair, most recent use—enlisted barracks AN TR, off-site use only

6 Bldgs.

Fort Drum

T-451, T-452, T-453, T-454, T-456, T-458

Ft. Drum Co: Jefferson NY 13602-

Property No.: 21200210056

Status: Unutilized

Comment: 4720 sq. ft., needs repair, most recent use—enlisted barracks AN TR, off-site use only

5 Bldgs.

Fort Drum

T-471, T-472, T-473, T-474, T-477

Ft. Drum Co: Jefferson NY 13602-

Property No.: 21200210057

Status: Unutilized

Comment: 4720 sq. ft., needs repair, most recent use—enlisted barracks AN TR, off-site use only

Bldgs. T-420, T-445, T-470

Fort Drum

Ft. Drum Co: Jefferson NY 13602-

Property No.: 21200210058

Status: Unutilized

Comment: 2510 sq. ft., needs repair, most recent use—dining facility, off-site use only

Bldgs. T-440, T-450

Fort Drum

Ft. Drum Co: Jefferson NY 13602-

Property No.: 21200210059

Status: Unutilized

Comment: 2360 sq. ft., needs repair, most recent use—dining facility, off-site use only

Bldg. T-478

Fort Drum

Ft. Drum Co: Jefferson NY 13602-

Property No.: 21200210060

Status: Unutilized

Comment: 4720 sq. ft., needs repair, most recent use—classroom, off-site use only

5 Bldgs.

Orangeburg USARC

#206, 207, 208, 218, 223

Orangeburg Co: Rockland NY 10962-2209

Property No.: 21200310061

Status: Unutilized

Comment: various sq. ft., need major repairs, presence of lead paint, most recent use—admin/storage, off-site use only

North Carolina

Building

Bldg. C5536

Fort Bragg

Ft. Bragg Co: Cumberland NC 28310-5000

Property No.: 21200130150

Status: Unutilized

Comment: 600 sq. ft., single wide trailer w/metal storage shed, needs major repair, presence of asbestos/lead paint, off-site use only

Ohio

Land

Land

Defense Supply Center

Columbus Co: Franklin OH 43216-5000

Property No.: 21200340094

Status: Excess

Comment: 11 acres, railroad access

Oklahoma

Building

Bldg. T-838, Fort Sill

838 Macomb Road

Lawton Co: Comanche OK 73503-5100

Property No.: 21199220609

Status: Unutilized

Comment: 151 sq. ft., wood frame, 1 story, off-site removal only, most recent use—vet facility (quarantine stable).

Bldg. T-954, Fort Sill

954 Quinette Road

Lawton Co: Comanche OK 73503-5100

Property No.: 21199240659

Status: Unutilized

Comment: 3571 sq. ft., 1 story wood frame, needs rehab, off-site use only, most recent use—motor repair shop.

Bldg. T-3325, Fort Sill

3325 Naylor Road

Lawton Co: Comanche OK 73503-5100

Property No.: 21199240681

Status: Unutilized

Comment: 8832 sq. ft., 1 story wood frame, needs rehab, off-site use only, most recent use—warehouse.

Bldg. T1652, Fort Sill

Lawton Co: Comanche OK 73503-5100

Property No.: 21199330380

Status: Unutilized

Comment: 1505 sq. ft., 1-story wood, possible asbestos, most recent use—storage, off-site use only

Bldg. T-4226

Fort Sill

Lawton Co: Comanche OK 73503-

Property No.: 21199440384

Status: Unutilized

Comment: 114 sq. ft., 1-story wood frame, possible asbestos and lead paint, most recent use—storage, off-site use only

Bldg. P-1015, Fort Sill

Lawton Co: Comanche OK 73501-5100

Property No.: 21199520197

Status: Unutilized

Comment: 15402 sq. ft., 1-story, most recent use—storage, off-site use only

Bldg. P-366, Fort Sill

Lawton Co: Comanche OK 73503-

Property No.: 21199610740

Status: Unutilized

Comment: 482 sq. ft., possible asbestos, most recent use—storage, off-site use only

Building T-2952

Fort Sill

Lawton Co: Comanche OK 73503-5100

Property No.: 21199710047

Status: Unutilized

Comment: 4,327 sq. ft., possible asbestos and lead paint, most recent use—motor repair shop, off-site use only

Building P-5042

Fort Sill

Lawton Co: Comanche OK 73503-5100

Property No.: 21199710066

Status: Unutilized

Comment: 119 sq. ft., possible asbestos and lead paint, most recent use—heatplant, off-site use only

4 Buildings

Fort Sill

Lawton Co: Comanche OK 73503-5100

Property No.: 21199710086

Location: T-6465, T-6466, T-6467, T-6468

Status: Unutilized

Comment: various sq. ft., possible asbestos and lead paint, most recent use—range support, off site use only

Bldg. T-810

Fort Sill

Lawton Co: Comanche OK 73503-5100

Property No.: 21199730350

Status: Unutilized

Comment: 7205 sq. ft., possible asbestos/lead paint, most recent use—hay storage, off-site use only

Bldgs. T-837, T-839

Fort Sill

Lawton Co: Comanche OK 73503-5100

Property No.: 21199730351

Status: Unutilized

Comment: approx. 100 sq. ft. each, possible asbestos/lead paint, most recent use—storage, off-site use only

Bldg. P-934

Fort Sill

Lawton Co: Comanche OK 73503-5100

Property No.: 21199730353

Status: Unutilized

Comment: 402 sq. ft., possible asbestos/lead paint, most recent use—storage, off-site use only

Bldg. T-1177

Fort Sill

Lawton Co: Comanche OK 73503-5100

Property No.: 21199730356

Status: Unutilized

Comment: 183 sq. ft., possible asbestos/lead paint, most recent use—snack bar, off-site use only

Bldgs. T-1468, T-1469

Fort Sill

Lawton Co: Comanche OK 73503-5100

Property No.: 21199730357

Status: Unutilized

Comment: 114 sq. ft., possible asbestos/lead paint, most recent use—storage, off-site use only

Bldg. T-1470

Fort Sill

Lawton Co: Comanche OK 73503-5100

Property No.: 21199730358

Status: Unutilized

Comment: 3120 sq. ft., possible asbestos/lead paint, most recent use—storage, off-site use only

Bldg. T-1940

Fort Sill

Lawton Co: Comanche OK 73503-5100

Property No.: 21199730360

Status: Unutilized

Comment: 1400 sq. ft., possible asbestos/lead paint, most recent use—storage, off-site use only

Bldgs. T-1954, T-2022

Fort Sill

Lawton Co: Comanche OK 73503-5100

Property No.: 21199730362

Status: Unutilized

Comment: approx. 100 sq. ft. each, possible asbestos/lead paint, most recent use—storage, off-site use only

Bldg. T-2184

Fort Sill

Lawton Co: Comanche OK 73503-5100

Property No.: 21199730364

Status: Unutilized

Comment: 454 sq. ft., possible asbestos/lead paint, most recent use—storage, off-site use only

Bldgs. T-2186, T-2188, T-2189

Fort Sill

Lawton Co: Comanche OK 73503-5100

Property No.: 21199730366

Status: Unutilized

Comment: 1656—3583 sq. ft., possible asbestos/lead paint, most recent use—vehicle maint. shop, off-site use only

Bldg. T-2187

Fort Sill

Lawton Co: Comanche OK 73503-5100

Property No.: 21199730367

Status: Unutilized

Comment: 1673 sq. ft., possible asbestos/lead paint, most recent use—storage, off-site use only

Bldgs. T-2291 thru T-2296

Fort Sill

Lawton Co: Comanche OK 73503-5100

Property No.: 21199730372

Status: Unutilized

Comment: 400 sq. ft. each, possible asbestos/lead paint, most recent use—storage, off-site use only

Bldgs. T-3001, T-3006

Fort Sill

Lawton Co: Comanche OK 73503-5100

Property No.: 21199730383

Status: Unutilized

Comment: approx. 9300 sq. ft., possible asbestos/lead paint, most recent use—storage, off-site use only

Bldg. T-3314

Fort Sill

Lawton Co: Comanche OK 73503-5100

Property No.: 21199730385

Status: Unutilized

Comment: 229 sq. ft., possible asbestos/lead paint, most recent use—office, off-site use only

Bldgs. T-4401, T-4402

Fort Sill

Lawton Co: Comanche OK 73503-5100

Property No.: 21199730393

Status: Unutilized

Comment: 2260 sq. ft., possible asbestos/lead paint, most recent use—office, off-site use only

Bldg. T-5041

Fort Sill

Lawton Co: Comanche OK 73503-5100

Property No.: 21199730409

Status: Unutilized

Comment: 763 sq. ft., possible asbestos/lead paint, most recent use—storage, off-site use only

Bldg. T-5420

Fort Sill

Lawton Co: Comanche OK 73503-5100

Property No.: 21199730414

Status: Unutilized

Comment: 189 sq. ft., possible asbestos/lead paint, most recent use—fuel storage, off-site use only

Bldg. T-7775

Fort Sill

Lawton Co: Comanche OK 73503-5100

Property No.: 21199730419

Status: Unutilized

Comment: 1452 sq. ft., possible asbestos/lead paint, most recent use—private club, off-site use only

4 Bldgs.

Fort Sill

P-617, P-1114, P-1386, P-1608

Lawton Co: Comanche OK 73503-5100

Property No.: 21199910133

Status: Unutilized

Comment: 106 sq. ft., possible asbestos/lead paint, most recent use—utility plant, off-site use only

Bldg. P-746

Fort Sill

Lawton Co: Comanche OK 73503-5100

Property No.: 21199910135

Status: Unutilized

Comment: 6299 sq. ft., possible asbestos/lead paint, most recent use—admin., off-site use only

Bldgs. P-2581, P-2773

Fort Sill

Lawton Co: Comanche OK 73503-5100

Property No.: 21199910140

Status: Unutilized

Comment: 4093 and 4129 sq. ft., possible asbestos/lead paint, most recent use—office, off-site use only

Bldg. P-2582

Fort Sill

Lawton Co: Comanche OK 73503-5100

Property No.: 21199910141

Status: Unutilized

Comment: 3672 sq. ft., possible asbestos/lead paint, most recent use—admin., off-site use only

Bldgs. P-2912, P-2921, P-2944

Fort Sill

Lawton Co: Comanche OK 73503-5100

Property No.: 21199910144

Status: Unutilized

Comment: 1390 sq. ft., possible asbestos/lead paint, most recent use—office, off-site use only

Bldg. P-2914

Fort Sill

Lawton Co: Comanche OK 73503-5100

Property No.: 21199910146

Status: Unutilized

Comment: 1236 sq. ft., possible asbestos/lead paint, most recent use—storage, off-site use only

Bldg. P-5101

Fort Sill

Lawton Co: Comanche OK 73503-5100

Property No.: 21199910153

Status: Unutilized

Comment: 82 sq. ft., possible asbestos/lead paint, most recent use—gas station, off-site use only

Bldg. S-6430

Fort Sill

Lawton Co: Comanche OK 73503-5100

Property No.: 21199910156

Status: Unutilized

Comment: 2080 sq. ft., possible asbestos/lead paint, most recent use—range support, off-site use only

Bldg. T-6461

Fort Sill

Lawton Co: Comanche OK 73503-5100

Property No.: 21199910157

Status: Unutilized

Comment: 200 sq. ft., possible asbestos/lead paint, most recent use—range support, off-site use only

Bldg. T-6462

Fort Sill

Lawton Co: Comanche OK 73503-5100

Property No.: 21199910158

Status: Unutilized

Comment: 64 sq. ft., possible asbestos/lead paint, most recent use—control tower, off-site use only

Bldg. P-7230

Fort Sill

Lawton Co: Comanche OK 73503-5100

Property No.: 21199910159

Status: Unutilized

Comment: 160 sq. ft., possible asbestos/lead paint, most recent use—transmitter bldg., off-site use only

Bldg. S-4023

Fort Sill

Lawton Co: Comanche OK 73503-5100

Property No.: 21200010128

Status: Unutilized

Comment: 1200 sq. ft., possible asbestos/lead paint, most recent use—storage, off-site use only

Bldg. P-747

Fort Sill

Lawton Co: Comanche OK 73503-5100

Property No.: 21200120120

Status: Unutilized

Comment: 9232 sq. ft., possible asbestos/lead paint, most recent use—lab, off-site use only

Bldg. P-842

Fort Sill

Lawton Co: Comanche OK 73503-5100

Property No.: 21200120123

Status: Unutilized

Comment: 192 sq. ft., possible asbestos/lead paint, most recent use—storage, off-site use only

Bldg. T-911

Fort Sill

Lawton Co: Comanche OK 73503-5100

Property No.: 21200120124

Status: Unutilized

Comment: 3080 sq. ft., possible asbestos/lead paint, most recent use—office, off-site use only

Bldg. P-1672

Fort Sill

Lawton Co: Comanche OK 73503-5100

Property No.: 21200120126

Status: Unutilized

Comment: 1056 sq. ft., possible asbestos/lead paint, most recent use—storage, off-site use only

Bldg. S-2362

Fort Sill

Lawton Co: Comanche OK 73503-5100

Property No.: 21200120127

Status: Unutilized

Comment: 64 sq. ft., possible asbestos/lead paint, most recent use—gatehouse, off-site use only

Bldg. P-2589

Fort Sill

Lawton Co: Comanche OK 73503-5100

Property No.: 21200120129

Status: Unutilized

Comment: 3672 sq. ft., possible asbestos/lead paint, most recent use—storage, off-site use only

Bldg. T-3043

Fort Sill

Lawton Co: Comanche OK 73503-5100

Property No.: 21200120130

Status: Unutilized

Comment: 80 sq. ft., possible asbestos/lead paint, most recent use—guard shack, off-site use only

South Carolina

Building

Bldg. 3499

Fort Jackson

Ft. Jackson Co: Richland SC 29207-

Property No.: 21199730310

Status: Unutilized

Comment: 3724 sq. ft., needs repair, most recent use—admin.

Bldg. 2441

Fort Jackson

Ft. Jackson Co: Richland SC 29207-

Property No.: 21199820187

Status: Unutilized

Comment: 2160 sq. ft., needs repair, most recent use—admin.

Bldg. 3605

Fort Jackson

Ft. Jackson Co: Richland SC 29207-

Property No.: 21199820188

Status: Unutilized

Comment: 711 sq. ft., needs repair, most recent use—storage

Bldg. 1765

Fort Jackson

Ft. Jackson Co: Richland SC 29207-

Property No.: 21200030109

Status: Unutilized

Comment: 1700 sq. ft., need repairs, presence of asbestos/lead paint, most recent use—training bldg., off-site use only

Land

One Acre

Fort Jackson

Columbia Co: Richland SC 29207-

Property No.: 21200110089

Status: Underutilized

Comment: approx. 1 acre

Texas

Building

Bldg. 7137

Fort Bliss

El Paso Co: El Paso TX 79916-

Property No.: 21199640564

Status: Unutilized

Comment: 35,736 sq. ft., 3-story, most recent use—housing, off-site use only

Bldg. 919

Fort Hood

Ft. Hood Co: Coryell TX 76544-

Property No.: 21199920212

Status: Unutilized

Comment: 11,800 sq. ft., needs repair, most recent use—Bde. Hq. Bldg., off-site use only

Bldg. 92043

Fort Hood

Ft. Hood Co: Bell TX 76544-

Property No.: 21200020206

Status: Unutilized

Comment: 450 sq. ft., most recent use—storage, off-site use only

Bldg. 92044

Fort Hood

Ft. Hood Co: Bell TX 76544-

Property No.: 21200020207

Status: Unutilized

Comment: 1920 sq. ft., most recent use—admin., off-site use only

Bldg. 92045

Fort Hood

Ft. Hood Co: Bell TX 76544-

Property No.: 21200020208

Status: Unutilized

Comment: 2108 sq. ft., most recent use—maint., off-site use only

Bldg. 1281

Fort Bliss

El Paso Co: TX 79916-

Property No.: 21200110091

Status: Unutilized

Comment: 25,027 sq. ft., most recent use—cold storage, off-site use only

Bldg. 7133

Fort Bliss

El Paso Co: TX 79916-

Property No.: 21200110095

Status: Unutilized

Comment: 11,650 sq. ft., most recent use—storage, off-site use only

Bldg. 7136

Fort Bliss

El Paso Co: TX 79916-

Property No.: 21200110096

Status: Unutilized

Comment: 11,755 sq. ft., most recent use—vet facility, off-site use only

Bldg. 7146

Fort Bliss

El Paso Co: TX 79916-

Property No.: 21200110097

Status: Unutilized

Comment: most recent use—oil storage, off-site use only

Bldg. 7147

Fort Bliss

El Paso Co: TX 79916-

Property No.: 21200110098

Status: Unutilized

Comment: most recent use—oil storage, off-site use only

Bldg. 7153

Fort Bliss

El Paso Co: TX 79916-

Property No.: 21200110099

Status: Unutilized

Comment: 11924 sq. ft., most recent use—bowling center, off-site use only

Bldg. 7162

Fort Bliss

El Paso Co: TX 79916-

Property No.: 21200110100

Status: Unutilized

Comment: 3956 sq. ft., most recent use—development center, off-site use only

Bldg. 11116

Fort Bliss

El Paso Co: TX 79916-

Property No.: 21200110101

Status: Unutilized

Comment: 20,100 sq. ft., most recent use—storage, off-site use only

Bldg. 7113

Fort Bliss

El Paso Co: TX 79916-

Property No.: 21200220132

Status: Unutilized

Comment: 8855 sq. ft., presence of asbestos/lead paint, most recent use—child development center, off-site use only

Bldg. T5900

Camp Bullis

San Antonio Co: Bexar TX 78257-

Property No.: 21200220133

Status: Excess

Comment: 9876 sq. ft., possible lead paint, most recent use—theater/training bldg., off-site use only

Bldgs. 107, 108

Fort Hood

Ft. Hood Co: Bell TX 76544-

Property No.: 21200220136

Status: Unutilized

Comment: 13,319 & 28,051 sq. ft., most recent use—admin., off-site use only

Bldg. 120

Fort Hood

Ft. Hood Co: Bell TX 76544-

Property No.: 21200220137

Status: Unutilized

Comment: 1450 sq. ft., most recent use—dental clinic, off-site use only

Bldg. 134

Fort Hood

Ft. Hood Co: Bell TX 76544-

Property No.: 21200220138

Status: Unutilized

Comment: 16,114 sq. ft., most recent use—auditorium, off-site use only

Bldg. 56305

Fort Hood

Ft. Hood Co: Bell TX 76544-

Property No.: 21200220143

Status: Unutilized

Comment: 2160 sq. ft., most recent use—admin., off-site use only

Bldg. 56402

Fort Hood

Ft. Hood Co: Bell TX 76544-

Property No.: 21200220144

Status: Unutilized

Comment: 2680 sq. ft., most recent use—recreation center, off-site use only

Bldgs. 56403, 56405

Fort Hood

Ft. Hood Co: Bell TX 76544-

Property No.: 21200220145

Status: Unutilized

Comment: 480 sq. ft., most recent use—shower, off-site use only

Bldgs. 56620, 56621

Fort Hood

Ft. Hood Co: Bell TX 76544-

Property No.: 21200220146

Status: Unutilized

Comment: 1120 sq. ft., most recent use—shower, off-site use only

Bldgs. 56626, 56627

Fort Hood

Ft. Hood Co: Bell TX 76544-

Property No.: 21200220147

Status: Unutilized

Comment: 1120 sq. ft., most recent use—shower, off-site use only

Bldg. 56628

Fort Hood

Ft. Hood Co: Bell TX 76544-

Property No.: 21200220148

Status: Unutilized

Comment: 1133 sq. ft., most recent use—shower, off-site use only

Bldgs. 56630, 56631

Fort Hood

Ft. Hood Co: Bell TX 76544-

Property No.: 21200220149

Status: Unutilized

Comment: 1120 sq. ft., most recent use—shower, off-site use only

Bldgs. 56636, 56637

Fort Hood

Ft. Hood Co: Bell TX 76544-

Property No.: 21200220150

Status: Unutilized

Comment: 1120 sq. ft., most recent use—shower, off-site use only

Bldg. 56638

Fort Hood

Ft. Hood Co: Bell TX 76544-

Property No.: 21200220151

Status: Unutilized

Comment: 1133 sq. ft., most recent use—shower, off-site use only

Bldgs. 56703, 56708

Fort Hood

Ft. Hood Co: Bell TX 76544-

Property No.: 21200220152

Status: Unutilized

Comment: 1306 sq. ft., most recent use—shower, off-site use only

Bldgs. 56750, 56751

Fort Hood

Ft. Hood Co: Bell TX 76544-

Property No.: 21200220153

Status: Unutilized

Comment: 1120 sq. ft., most recent use—shower, off-site use only

Bldg. 56758

Fort Hood

Ft. Hood Co: Bell TX 76544-

Property No.: 21200220154

Status: Unutilized

Comment: 1133 sq. ft., most recent use—shower, off-site use only

Bldg. P6202

Fort Sam Houston

San Antonio Co: Bexar TX 78234-

Property No.: 21200220156

Status: Excess

Comment: 1479 sq. ft., presence of asbestos/lead paint, provider responsible for hazard abatement, most recent use—officer's family quarters, off-site use only

Bldg. P6203

Fort Sam Houston

San Antonio Co: Bexar TX 78234-

Property No.: 21200220157

Status: Excess

Comment: 1381 sq. ft., presence of asbestos/lead paint, provider responsible for hazard abatement, most recent use—military family quarters, off-site use only

Bldg. P6204

Fort Sam Houston

San Antonio Co: Bexar TX 78234-

Property No.: 21200220158

Status: Excess

Comment: 1454 sq. ft., presence of asbestos/lead paint, provider responsible for hazard abatement, most recent use—military family quarters, off-site use only

Bldgs. P6220, P6222

Fort Sam Houston

Camp Bullis

San Antonio Co: Bexar TX

Property No.: 21200330197

Status: Unutilized

Comment: 384 sq. ft., most recent use—carport/storage, off-site use only

Bldgs. P6224, P6226

Fort Sam Houston

Camp Bullis

San Antonio Co: Bexar TX

Property No.: 21200330198

Status: Unutilized

Comment: 384 sq. ft., most recent use—carport/storage, off-site use only

Virginia

Building

Bldg. T246

Fort Monroe

Ft. Monroe Co: VA 23651-

Property No.: 21199940047

Status: Unutilized

Comment: 756 sq. ft., needs repair, possible lead paint, most recent use—scout meetings, off-site use only

Bldgs. 1516, 1517, 1552, 1567 Fort Eustis

Ft. Eustis Co: VA 23604-

Property No.: 21200130154

Status: Unutilized

Comment: 2892 & 4720 sq. ft., most recent use—dining/barracks/admin, off-site use only

Bldg. 1559

Fort Eustis

Ft. Eustis Co: VA 23604-

Property No.: 21200130156

Status: Unutilized

Comment: 2892 sq. ft., most recent use—storage, off-site use only

Bldg. T0058

Fort Monroe

Stillwell Dr.

Ft. Monroe Co: VA

Property No.: 21200310057

Status: Excess

Comment: 7875 sq. ft., presence of asbestos/lead paint, most recent use—housing, off-site use only

Bldg. 18

Defense Supply Center

Richmond Co: Chesterfield VA 23875-

Property No.: 21200320174

Status: Unutilized

Comment: 6962 sq. ft., most recent use—office/warehouse, off-site use only

Bldg. T-707

Fort Eustis

Ft. Eustis Co: VA 23604-

Property No.: 21200330199

Status: Unutilized

Comment: 3763 sq. ft., most recent use—chapel, off-site use only

Washington

Building

Bldg. CO909, Fort Lewis

Ft. Lewis Co: Pierce WA 98433-9500

Property No.: 21199630205

Status: Unutilized

Comment: 1984 sq. ft., possible asbestos/lead paint, most recent use—admin., off-site use only

Bldg. 1164, Fort Lewis

Ft. Lewis Co: Pierce WA 98433-9500

Property No.: 21199630213

Status: Unutilized

Comment: 230 sq. ft., possible asbestos/lead paint, most recent use—storehouse, off-site use only

Bldg. 1307, Fort Lewis

Ft. Lewis Co: Pierce WA 98433-9500

Property No.: 21199630216

Status: Unutilized

Comment: 1092 sq. ft., possible asbestos/lead paint, most recent use—storage, off-site use only

Bldg. 1309, Fort Lewis

Ft. Lewis Co: Pierce WA 98433-9500

Property No.: 21199630217

Status: Unutilized

Comment: 1092 sq. ft., possible asbestos/lead paint, most recent use—storage, off-site use only

Bldg. 2167, Fort Lewis

Ft. Lewis Co: Pierce WA 98433-9500

Property No.: 21199630218

Status: Unutilized

Comment : 288 sq. ft., possible asbestos/lead paint, most recent use—warehouse, off-site use only

Bldg. 4078, Fort Lewis

Ft. Lewis Co: Pierce WA 98433-9500

Property No.: 21199630219

Status: Unutilized

Comment: 10200 sq. ft., needs rehab, possible asbestos/lead paint, most recent use—warehouse, off-site use only

Bldg. 9599, Fort Lewis

Ft. Lewis Co: Pierce WA 98433-9500

Property No.: 21199630220

Status: Unutilized

Comment: 12366 sq. ft., possible asbestos/lead paint, most recent use—warehouse, off-site use only

Bldg. A1404, Fort Lewis

Ft. Lewis Co: Pierce WA 98433-

Property No.: 21199640570

Status: Unutilized

Comment: 557 sq. ft., needs rehab, most recent use—storage, off-site use only

Bldg. A1419, Fort Lewis

Ft. Lewis Co: Pierce WA 98433-

Property No.: 21199640571

Status: Unutilized

Comment: 1307 sq. ft., needs rehab, most recent use—storage, off-site use only

Bldg. EO347

Fort Lewis

Ft. Lewis Co: Pierce WA 98433-

Property No.: 21199710156

Status: Unutilized

Comment: 1800 sq. ft., possible asbestos/lead paint, most recent use—office, off-site use only

Bldg. B1008, Fort Lewis

Ft. Lewis Co: Pierce WA 98433-

Property No.: 21199720216

Status: Unutilized

Comment: 7387 sq. ft., 2-story, needs rehab, possible asbestos/lead paint, most recent use—medical clinic, off-site use only

Bldgs. B1011-B1012, Fort Lewis

Ft. Lewis Co: Pierce WA 98433-

Property No.: 21199720217

Status: Unutilized

Comment: 992 sq. ft. and 1144 sq. ft., needs rehab, possible asbestos/lead paint, most recent use—office, off-site use only

Bldgs. CO509, CO709, CO720 Fort Lewis

Ft. Lewis Co: Pierce WA 98433-

Property No.: 21199810372

Status: Unutilized

Comment: 1984 sq. ft., possible asbestos/lead paint, needs rehab, most recent use—storage, off-site use only

Bldg. 5162

Fort Lewis

Ft. Lewis Co: Pierce WA 98433-

Property No.: 21199830419

Status: Unutilized

Comment: 2360 sq. ft., needs repair, presence of asbestos/lead paint, most recent use—office, off-site use only

Bldg. 5224

Fort Lewis

Ft. Lewis Co: Pierce WA 98433-

Property No.: 21199830433

Status: Unutilized

Comment: 2360 sq. ft., needs repair, presence of asbestos/lead paint, most recent use—educ. fac., off-site use only

Bldg. U001B

Fort Lewis

Ft. Lewis Co: Pierce WA 98433-

Property No.: 21199920237

Status: Excess

Comment: 54 sq. ft., needs repair, presence of asbestos/lead paint, most recent use—control tower, off-site use only

Bldg. U001C

Fort Lewis

Ft. Lewis Co: Pierce WA 98433-

Property No.: 21199920238

Status: Unutilized

Comment: 960 sq. ft., needs repair, presence of asbestos/lead paint, most recent use—supply, off-site use only

10 Bldgs.

Fort Lewis

Ft. Lewis Co: Pierce WA 98433-

Property No.: 21199920239

Location: U002B, U002C, U005C, U015I, U016E, U019C, U022A, U028B, 0091A, U093C

Status: Excess

Comment: 600 sq. ft., needs repair, presence of asbestos/lead paint, most recent use—range house, off-site use only

6 Bldgs.

Fort Lewis

Ft. Lewis Co: Pierce WA 98433-

Property No.: 21199920240

Location: U003A, U004B, U006C, U015B, U016B, U019B

Status: Unutilized

Comment: 54 sq. ft., needs repair, presence of asbestos/lead paint, most recent use—control tower, off-site use only

Bldg. U004D

Fort Lewis

Ft. Lewis Co: Pierce WA 98433-

Property No.: 21199920241

Status: Unutilized

Comment: 960 sq. ft., needs repair, presence of asbestos/lead paint, most recent use—supply, off-site use only

Bldg. U005A

Fort Lewis

Ft. Lewis Co: Pierce WA 98433-

Property No.: 21199920242

Status: Unutilized

Comment: 360 sq. ft., needs repair, presence of asbestos/lead paint, most recent use—control tower, off-site use only

7 Bldgs.

Fort Lewis

Ft. Lewis Co: Pierce WA 98433-

Property No.: 21199920245

Location: U014A, U022B, U023A, U043B, U059B, U060A, U101A

Status: Excess

Comment: needs repair, presence of asbestos/lead paint, most recent use—ofc/tower/support, off-site use only

Bldg. U015J

Fort Lewis

Ft. Lewis Co: Pierce WA 98433-

Property No.: 21199920246

Status: Excess

Comment: 144 sq. ft., needs repair, presence of asbestos/lead paint, most recent use—tower, off-site use only

Bldg. U018B

Fort Lewis

Ft. Lewis Co: Pierce WA 98433-

Property No.: 21199920247

Status: Unutilized

Comment: 121 sq. ft., needs repair, presence of asbestos/lead paint, most recent use—range house, off-site use only

Bldg. U018C

Fort Lewis

Ft. Lewis Co: Pierce WA 98433-

Property No.: 21199920248

Status: Unutilized

Comment: 48 sq. ft., needs repair, presence of asbestos/lead paint, off-site use only

Bldg. U024D

Fort Lewis

Ft. Lewis Co: Pierce WA 98433-

Property No.: 21199920250

Status: Unutilized

Comment: 120 sq. ft., needs repair, presence of asbestos/lead paint, most recent use—ammo bldg., off-site use only

Bldg. U027A

Fort Lewis

Ft. Lewis Co: Pierce WA 98433-

Property No.: 21199920251

Status: Excess

Comment: 64 sq. ft., needs repair, presence of asbestos/lead paint, most recent use—tire house, off-site use only

Bldg. U031A

Fort Lewis

Ft. Lewis Co: Pierce WA 98433-

Property No.: 21199920253

Status: Excess

Comment: 3456 sq. ft., needs repair, presence of asbestos/lead paint, most recent use—line shed, off-site use only

Bldg. U031C

Fort Lewis

Ft. Lewis Co: Pierce WA 98433-

Property No.: 21199920254

Status: Unutilized

Comment: 32 sq. ft., needs repair, presence of asbestos/lead paint, off-site use only

Bldg. U040D

Fort Lewis

Ft. Lewis Co: Pierce WA 98433-

Property No.: 21199920255

Status: Excess

Comment: 800 sq. ft., needs repair, presence of asbestos/lead paint, most recent use—range house, off-site use only

Bldgs. U052C, U052H

Fort Lewis

Ft. Lewis Co: Pierce WA 98433-

Property No.: 21199920256

Status: Excess

Comment: various sq. ft., needs repair, presence of asbestos/lead paint, most recent use—range house, off-site use only

Bldgs. U035A, U035B

Fort Lewis

Ft. Lewis Co: Pierce WA 98433-

Property No.: 21199920257

Status: Excess

Comment: 192 sq. ft., needs repair, presence of asbestos/lead paint, most recent use—shelter, off-site use only

Bldg. U035C

Fort Lewis

Ft. Lewis Co: Pierce WA 98433-

Property No.: 21199920258

Status: Excess

Comment: 242 sq. ft., needs repair, presence of asbestos/lead paint, most recent use—range house, off-site use only

Bldg. U039A

Fort Lewis

Ft. Lewis Co: Pierce WA 98433-

Property No.: 21199920259

Status: Excess

Comment: 36 sq. ft., needs repair, presence of asbestos/lead paint, most recent use—control tower, off-site use only

Bldg. U039B

Fort Lewis

Ft. Lewis Co: Pierce WA 98433-

Property No.: 21199920260

Status: Excess

Comment: 1600 sq. ft., needs repair, presence of asbestos/lead paint, most recent use—grandstand/bleachers, off-site use only

Bldg. U039C

Fort Lewis

Ft. Lewis Co: Pierce WA 98433-

Property No.: 21199920261

Status: Excess

Comment: 600 sq. ft., needs repair, presence of asbestos/lead paint, most recent use—support, off-site use only

Bldg. U043A

Fort Lewis

Ft. Lewis Co: Pierce WA 98433-

Property No.: 21199920262

Status: Excess

Comment: 132 sq. ft., needs repair, presence of asbestos/lead paint, most recent use—range house, off-site use only

Bldg. U052A

Fort Lewis

Ft. Lewis Co: Pierce WA 98433-

Property No.: 21199920263

Status: Excess

Comment: 69 sq. ft., needs repair, presence of asbestos/lead paint, most recent use—tower, off-site use only

Bldg. U052E

Fort Lewis

Ft. Lewis Co: Pierce WA 98433-

Property No.: 21199920264

Status: Excess

Comment: 600 sq. ft., needs repair, presence of asbestos/lead paint, most recent use—storage, off-site use only

Bldg. U052G

Fort Lewis

Ft. Lewis Co: Pierce WA 98433-

Property No.: 21199920265

Status: Excess

Comment: 1600 sq. ft., needs repair, presence of asbestos/lead paint, most recent use—shelter, off-site use only

3 Bldgs.

Fort Lewis

Ft. Lewis Co: Pierce WA 98433-

Property No.: 21199920266

Location: U058A, U103A, U018A

Status: Excess

Comment: 36 sq. ft., needs repair, presence of asbestos/lead paint, most recent use—control tower, off-site use only

Bldg. U059A

Fort Lewis

Ft. Lewis Co: Pierce WA 98433-

Property No.: 21199920267

Status: Excess

Comment: 16 sq. ft., needs repair, presence of asbestos/lead paint, most recent use—tower, off-site use only

Bldg. U093B

Fort Lewis

Ft. Lewis Co: Pierce WA 98433-

Property No.: 21199920268

Status: Excess

Comment: 680 sq. ft., needs repair, presence of asbestos/lead paint, most recent use—range house, off-site use only

4 Bldgs.

Fort Lewis

Ft. Lewis Co: Pierce WA 98433-

Property No.: 21199920269

Location: U101B, U101C, U507B, U557A

Status: Excess

Comment: 400 sq. ft., needs repair, presence of asbestos/lead paint, off-site use only

Bldg. U110B

Fort Lewis

Ft. Lewis Co: Pierce WA 98433-

Property No.: 21199920272

Status: Excess

Comment: 138 sq. ft., needs repair, presence of asbestos/lead paint, most recent use—support, off-site use only

6 Bldgs.

Fort Lewis

Ft. Lewis Co: Pierce WA 98433-

Property No.: 21199920273

Location: U111A, U015A, U024E, U052F, U109A, U110A

Status: Excess

Comment: 1000 sq. ft., needs repair, presence of asbestos/lead paint, most recent use—support/shelter/mess, off-site use only

Bldg. U112A

Fort Lewis

Ft. Lewis Co: Pierce WA 98433-

Property No.: 21199920274

Status: Excess

Comment: 1600 sq. ft., needs repair, presence of asbestos/lead paint, most recent use-shelter, off-site use only

Bldg. U115A

Fort Lewis

Ft. Lewis Co: Pierce WA 98433-

Property No.: 21199920275

Status: Excess

Comment: 36 sq. ft., needs repair, presence of asbestos/lead paint, most recent use—tower, off-site use only

Bldg. U507A

Fort Lewis

Ft. Lewis Co: Pierce WA 98433-

Property No.: 21199920276

Status: Excess

Comment: 400 sq. ft., needs repair, presence of asbestos/lead paint, most recent use—support, off-site use only

Bldg. C0120

Fort Lewis

Ft. Lewis Co: Pierce WA 98433-

Property No.: 21199920281

Status: Excess

Comment: 384 sq. ft., needs repair, presence of asbestos/lead paint, most recent use—scale house, off-site use only

Bldg. A0334

Fort Lewis

Ft. Lewis Co: Pierce WA 98433-

Property No.: 21199920284

Status: Excess

Comment: 1092 sq. ft., needs repair, presence of asbestos/lead paint, most recent use—sentry station, off-site use only

Bldg. 01205

Fort Lewis

Ft. Lewis Co: Pierce WA 98433-

Property No.: 21199920290

Status: Excess

Comment: 87 sq. ft., needs repair, presence of asbestos/lead paint, most recent use—storehouse, off-site use only

Bldg. 01259

Fort Lewis

Ft. Lewis Co: Pierce WA 98433-

Property No.: 21199920291

Status: Excess

Comment: 16 sq. ft., needs repair, presence of asbestos/lead paint, most recent use—storage, off-site use only

Bldg. 01266

Fort Lewis

Ft. Lewis Co: Pierce WA 98433-

Property No.: 21199920292

Status: Excess

Comment: 45 sq. ft., needs repair, presence of asbestos/lead paint, most recent use—shelter, off-site use only

Bldg. 1445

Fort Lewis

Ft. Lewis Co: Pierce WA 98433-

Property No.: 21199920294

Status: Excess

Comment: 144 sq. ft., needs repair, presence of asbestos/lead paint, most recent use—generator bldg., off-site use only

Bldgs. 03091, 03099

Fort Lewis

Ft. Lewis Co: Pierce WA 98433-

Property No.: 21199920296

Status: Excess

Comment: various sq. ft., needs repair, presence of asbestos/lead paint, most recent use—sentry station, off-site use only

Bldg. 4040

Fort Lewis

Ft. Lewis Co: Pierce WA 98433-

Property No.: 21199920298

Status: Excess

Comment: 8326 sq. ft., needs repair, presence of asbestos/lead paint, most recent use—shed, off-site use only

Bldgs. 4072, 5104

Fort Lewis

Ft. Lewis Co: Pierce WA 98433-

Property No.: 21199920299

Status: Excess

Comment: 24/36 sq. ft., needs repair, presence of asbestos/lead paint, off-site use only

Bldg. 4295

Fort Lewis

Ft. Lewis Co: Pierce WA 98433-

Property No.: 21199920300

Status: Excess

Comment: 48 sq. ft., needs repair, presence of asbestos/lead paint, most recent use—storage, off-site use only

Bldg. 5170

Fort Lewis

Ft. Lewis Co: Pierce WA 98433-

Property No.: 21199920301

Status: Excess

Comment: 19,411 sq. ft., needs repair, presence of asbestos/lead paint, most recent use—store, off-site use only

Bldg. 6191

Fort Lewis

Ft. Lewis Co: Pierce WA 98433-

Property No.: 21199920303

Status: Excess

Comment: 3663 sq. ft., needs repair, presence of asbestos/lead paint, most recent use—exchange branch, off-site use only

Bldgs. 08076, 08080

Fort Lewis

Ft. Lewis Co: Pierce WA 98433-

Property No.: 21199920304

Status: Excess

Comment: 3660/412 sq .ft., needs repair, presence of asbestos/lead paint, off-site use only

Bldg. 08093

Fort Lewis

Ft. Lewis Co: Pierce WA 98433-

Property No.: 21199920305

Status: Excess

Comment: 289 sq. ft., needs repair, presence of asbestos/lead paint, most recent use—boat storage, off-site use only

Bldg. 8279

Fort Lewis

Ft. Lewis Co: Pierce WA 98433-

Property No.: 21199920306

Status: Excess

Comment: 210 sq. ft., needs repair, presence of asbestos/lead paint, most recent use—fuel disp. fac., off-site use only

Bldgs. 8280, 8291

Fort Lewis

Ft. Lewis Co: Pierce WA 98433-

Property No.: 21199920307

Status: Excess

Comment: 800/464 sq. ft., needs repair, presence of asbestos/lead paint, most recent use—storage, off-site use only

Bldg. 8956

Fort Lewis

Ft. Lewis Co: Pierce WA 98433-

Property No.: 21199920308

Status: Excess

Comment: 100 sq. ft., needs repair, presence of asbestos/lead paint, most recent use—storage, off-site use only

Bldg. 9530

Fort Lewis

Ft. Lewis Co: Pierce WA 98433-

Property No.: 21199920309

Status: Excess

Comment: 64 sq. ft., needs repair, presence of asbestos/lead paint, most recent use—sentry station, off-site use only

Bldg. 9574

Fort Lewis

Ft. Lewis Co: Pierce WA 98433-

Property No.: 21199920310

Status: Excess

Comment: 6005 sq. ft., needs repair, presence of asbestos/lead paint, most recent use—veh. shop., off-site use only

Bldg. 9596

Fort Lewis

Ft. Lewis Co: Pierce WA 98433-

Property No.: 21199920311

Status: Excess

Comment: 36 sq. ft., needs repair, presence of asbestos/lead paint, most recent use—gas station, off-site use only

COE

Arkansas

Land

Parcel 01

DeGray Lake

Section 12

Arkadelphia Co: Clark AR 71923-9361

Property No.: 31199010071

Status: Unutilized

Comment: 77.6 acres

Parcel 02

DeGray Lake

Section 13

Arkadelphia Co: Clark AR 71923-9361

Property No.: 31199010072

Status: Unutilized

Comment: 198.5 acres

Parcel 03

DeGray Lake

Section 18

Arkadelphia Co: Clark AR 71923-9361

Property No.: 31199010073

Status: Unutilized

Comment: 50.46 acres

Parcel 04

DeGray Lake

Section 24, 25, 30 and 31

Arkadelphia Co: Clark AR 71923-9361

Property No.: 31199010074

Status: Unutilized

Comment: 236.37 acres

Parcel 05

DeGray Lake

Section 16

Arkadelphia Co: Clark AR 71923-9361

Property No.: 31199010075

Status: Unutilized

Comment: 187.30 acres

Parcel 06

DeGray Lake

Section 13

Arkadelphia Co: Clark AR 71923-9361

Property No.: 31199010076

Status: Unutilized

Comment: 13.0 acres

Parcel 07

DeGray Lake

Section 34

Arkadelphia Co: Hot Spring AR 71923-9361

Property No.: 31199010077

Status: Unutilized

Comment: 0.27 acres

Parcel 08

DeGray Lake

Section 13

Arkadelphia Co: Clark AR 71923-9361

Property No.: 31199010078

Status: Unutilized

Comment: 14.6 acres

Parcel 09

DeGray Lake

Section 12

Arkadelphia Co: Hot Spring AR 71923-9361

Property No.: 31199010079

Status: Unutilized

Comment: 6.60 acres

Parcel 10

DeGray Lake

Section 12

Arkadelphia Co: Hot Spring AR 71923-9361

Property No.: 31199010080

Status: Unutilized

Comment: 4.5 acres

Parcel 11

DeGray Lake

Section 19

Arkadelphia Co: Hot Spring AR 71923-9361

Property No.: 31199010081

Status: Unutilized

Comment: 19.50 acres

Lake Greeson

Section 7, 8 and 18

Murfreesboro Co: Pike AR 71958-9720

Property No.: 31199010083

Status: Unutilized

Comment: 46 acres

Kansas

Land

Parcel 1

El Dorado Lake

Section 13, 24, and 18

(See County) Co: Butler KS

Property No.: 31199010064

Status: Unutilized

Comment: 61 acres; most recent use—recreation.

Kentucky

Building

Green River Lock & Dam #3

Rochester Co: Butler KY 42273-

Property No.: 31199010022

Location: SR 70 west from Morgantown, KY., approximately 7 miles to site.

Status: Unutilized

Comment: 980 sq. ft.; 2 story wood frame; two story residence; potential utilities; needs major rehab.

Land

Tract 2625

Barkley Lake, Kentucky, and Tennessee

Cadiz Co: Trigg KY 42211-

Property No.: 31199010025

Location: Adjoining the village of Rockcastle.

Status: Excess

Comment: 2.57 acres; rolling and wooded.

Tract 2709-10 and 2710-2

Barkley Lake, Kentucky and Tennessee

Cadiz Co: Trigg KY 42211-

Property No.: 31199010026

Location: 2½ miles in a southerly direction from the village of Rockcastle.

Status: Excess

Comment: 2.00 acres; steep and wooded.

Tract 2708-1 and 2709-1

Barkley Lake, Kentucky and Tennessee

Cadiz Co: Trigg KY 42211-

Property No.: 31199010027

Location: 2½ miles in a southerly direction from the village of Rockcastle.

Status: Excess

Comment: 3.59 acres; rolling and wooded; no utilities.

Tract 2800

Barkley Lake, Kentucky and Tennessee

Cadiz Co: Trigg KY 42211-

Property No.: 31199010028

Location: 4½ miles in a southeasterly direction from the village of Rockcastle.

Status: Excess

Comment: 5.44 acres; steep and wooded.

Tract 2915

Barkley Lake, Kentucky and Tennessee

Cadiz Co: Trigg KY 42211-

Property No.: 31199010029

Location: 6½ miles west of Cadiz.

Status: Excess

Comment: 5.76 acres; steep and wooded; no utilities.

Tract 2702

Barkley Lake, Kentucky and Tennessee

Cadiz Co: Trigg KY 42211-

Property No.: 31199010031

Location: 1 mile in a southerly direction from the village of Rockcastle.

Status: Excess

Comment: 4.90 acres; wooded; no utilities.

Tract 4318

Barkley Lake, Kentucky and Tennessee

Canton Co: Trigg KY 42212-

Property No.: 31199010032

Location: Trigg Co. adjoining the city of Canton, KY. on the waters of Hopson Creek.

Status: Excess

Comment: 8.24 acres; steep and wooded.

Tract 4502

Barkley Lake, Kentucky and Tennessee

Canton Co: Trigg KY 42212-

Property No.: 31199010033

Location: 3½ miles in a southerly direction from Canton, KY.

Status: Excess

Comment: 4.26 acres; steep and wooded.

Tract 4611

Barkley Lake, Kentucky and Tennessee

Canton Co: Trigg KY 42212-

Property No.: 31199010034

Location: 5 miles south of Canton, KY.

Status: Excess

Comment: 10.51 acres; steep and wooded; no utilities.

Tract 4619

Barkley Lake, Kentucky and Tennessee

Canton Co: Trigg KY 42212-

Property No.: 31199010035

Location: 4½ miles south from Canton, KY.

Status: Excess

Comment: 2.02 acres; steep and wooded; no utilities.

Tract 4817

Barkley Lake, Kentucky and Tennessee

Canton Co: Trigg KY 42212-

Property No.: 31199010036

Location: 6½ miles south of Canton, KY.

Status: Excess

Comment: 1.75 acres; wooded.

Tract 1217

Barkley Lake, Kentucky and Tennessee

Eddyville Co: Lyon KY 42030

Property No.: 31199010042

Location: On the north side of the Illinois Central Railroad.

Status: Excess

Comment: 5.80 acres; steep and wooded.

Tract 1906

Barkley Lake, Kentucky and Tennessee

Eddyville Co: Lyon KY 42030-

Property No.: 31199010044

Location: Approximately 4 miles east of Eddyville, KY.

Status: Excess

Comment: 25.86 acres; rolling steep and partially wooded; no utilities.

Tract 1907

Barkley Lake, Kentucky and Tennessee

Eddyville Co: Lyon KY 42038-

Property No.: 31199010045

Location: On the waters of Pilfen Creek, 4 miles east of Eddyville, KY

Status: Excess

Comment: 8.71 acres; rolling steep and wooded; no utilities.

Tract 2001 #1

Barkley Lake, Kentucky and Tennessee

Eddyville Co: Lyon KY 42030-

Property No.: 31199010046

Location: Approximately 4½ miles east of Eddyville, KY.

Status: Excess

Comment: 47.42 acres; steep and wooded; no utilities.

Tract 2001 #2

Barkley Lake, Kentucky and Tennessee

Eddyville Co: Lyon KY 42030-

Property No.: 31199010047

Location: Approximately 4½ miles east of Eddyville, KY.

Status: Excess

Comment: 8.64 acres; steep and wooded; no utilities.

Tract 2005

Barkley Lake, Kentucky and Tennessee

Eddyville Co: Lyon KY 42030-

Property No.: 31199010048

Location: Approximately 5½ miles east of Eddyville, KY.

Status: Excess

Comment: 4.62 acres; steep and wooded; no utilities.

Tract 2307

Barkley Lake, Kentucky and Tennessee

Eddyville Co: Lyon KY 42030-

Property No.: 31199010049

Location: Approximately 7½ miles southeasterly of Eddyville, KY.

Status: Excess

Comment: 11.43 acres; steep; rolling and wooded; no utilities.

Tract 2403

Barkley Lake, Kentucky and Tennessee

Eddyville Co: Lyon KY 42030-

Property No.: 31199010050

Location: 7 miles southeasterly of Eddyville, KY.

Status: Excess

Comment: 1.56 acres; steep and wooded; no utilities.

Tract 2504

Barkley Lake, Kentucky and Tennessee

Eddyville Co: Lyon KY 42030-

Property No.: 31199010051

Location: 9 miles southeasterly of Eddyville, KY.

Status: Excess

Comment: 24.46 acres; steep and wooded; no utilities.

Tract 214

Barkley Lake, Kentucky and Tennessee

Grand Rivers Co: Lyon KY 42045-

Property No.: 31199010052

Location: South of the Illinois Central Railroad, 1 mile east of the Cumberland River.

Status: Excess

Comment: 5.5 acres; wooded; no utilities.

Tract 215

Barkley Lake, Kentucky and Tennessee

Grand Rivers Co: Lyon KY 42045-

Property No.: 31199010053

Location: 5 miles southwest of Kuttawa

Status: Excess

Comment: 1.40 acres; wooded; no utilities.

Tract 241

Barkley Lake, Kentucky and Tennessee

Grand Rivers Co: Lyon KY 42045-

Property No.: 31199010054

Location: Old Henson Ferry Road, 6 miles west of Kuttawa, KY.

Status: Excess

Comment: 1.26 acres; steep and wooded; no utilities.

Tracts 306, 311, 315 and 325

Barkley Lake, Kentucky and Tennessee

Grand Rivers Co: Lyon KY 42045-

Property No.: 31199010055

Location: 2.5 miles southwest of Kuttawa, KY. on the waters of Cypress Creek.

Status: Excess

Comment: 38.77 acres; steep and wooded; no utilities.

Tracts 2305, 2306, and 2400-1

Barkley Lake, Kentucky and Tennessee

Eddyville Co: Lyon KY 42030-

Property No.: 31199010056

Location: 6½ miles southeasterly of Eddyville, KY.

Status: Excess

Comment: 97.66 acres; steep rolling and wooded; no utilities.

Tracts 5203 and 5204

Barkley Lake, Kentucky and Tennessee

Linton Co: Trigg KY 42212-

Property No.: 31199010058

Location: Village of Linton, KY state highway 1254.

Status: Excess

Comment: 0.93 acres; rolling, partially wooded; no utilities.

Tract 5240

Barkley Lake, Kentucky and Tennessee

Linton Co: Trigg KY 42212-

Property No.: 31199010059

Location: 1 mile northwest of Linton, KY.

Status: Excess

Comment: 2.26 acres; steep and wooded; no utilities.

Tract 4628

Barkley Lake, Kentucky and Tennessee

Canton Co: Trigg KY 42212-

Property No.: 31199011621

Location: 4½ miles south from Canton, KY.

Status: Excess

Comment: 3.71 acres; steep and wooded; subject to utility easements.

Tract 4619-B

Barkley Lake, Kentucky and Tennessee

Canton Co: Trigg KY 42212-

Property No.: 31199011622

Location: 4½ miles south from Canton, KY.

Status: Excess

Comment: 1.73 acres; steep and wooded; subject to utility easements.

Tract 2403-B

Barkley Lake, Kentucky and Tennessee

Eddyville Co: Lyon KY 42038-

Property No.: 31199011623

Location: 7 miles southeasterly from Eddyville, KY.

Status: Unutilized

Comment: 0.70 acres, wooded; subject to utility easements.

Tract 241-B

Barkley Lake, Kentucky and Tennessee

Grand Rivers Co: Lyon KY 42045-

Property No.: 31199011624

Location: South of Old Henson Ferry Road, 6 miles west of Kuttawa, KY.

Status: Excess

Comment: 11.16 acres; steep and wooded; subject to utility easements.

Tracts 212 and 237

Barkley Lake, Kentucky and Tennessee

Grand Rivers Co: Lyon KY 42045-

Property No.: 31199011625

Location: Old Henson Ferry Road, 6 miles west of Kuttawa, KY.

Status: Excess

Comment: 2.44 acres; steep and wooded; subject to utility easements.

Tract 215-B

Barkley Lake, Kentucky and Tennessee

Grand Rivers Co: Lyon KY 42045-

Property No.: 31199011626

Location: 5 miles southwest of Kuttawa

Status: Excess

Comment: 1.00 acres; wooded; subject to utility easements.

Tract 233

Barkley Lake, Kentucky and Tennessee

Grand Rivers Co: Lyon KY 42045-

Property No.: 31199011627

Location: 5 miles southwest of Kuttawa

Status: Excess

Comment: 1.00 acres; wooded; subject to utility easements.

Tract N-819

Dale Hollow Lake & Dam Project

Illwill Creek, Hwy 90

Hobart Co: Clinton KY 42601-

Property No.: 31199140009

Status: Underutilized

Comment: 91 acres, most recent use—hunting, subject to existing easements.

Portion of Lock & Dam No. 1

Kentucky River

Carrolton Co: Carroll KY 41008-0305

Property No.: 31199320003

Status: Unutilized

Comment: approx. 3.5 acres (sloping), access monitored.

Tract No. F-610

Buckhorn Lake Project

Buckhorn Co: KY 41721-

Property No.: 31200240001

Status: Unutilized

Comment: 0.64 acres, encroachments, most recent use—flood control purposes.

Louisiana

Land

Wallace Lake Dam and Reservoir

Shreveport Co: Caddo LA 71103-

Property No.: 31199011009

Status: Unutilized

Comment: 10.81 acres; wildlife/forestry; no utilities.

Bayou Bodcau Dam and Reservoir

Haughton Co: Caddo LA 71037-9707

Property No.: 31199011010

Location: 35 miles Northeast of Shreveport, La.

Status: Unutilized

Comment: 203 acres; wildlife/forestry; no utilities.

Mississippi

Land

Parcel 7

Grenada Lake

Sections 22, 23, T24N

Grenada Co: Yalobusha MS 38901-0903

Property No.: 31199011019

Status: Underutilized

Comment: 100 acres; no utilities; intermittently used under lease—expires 1994.

Parcel 8

Grenada Lake

Section 20, T24N

Grenada Co: Yalobusha MS 38901-0903

Property No.: 31199011020

Status: Underutilized

Comment: 30 acres; no utilities; intermittently used under lease—expires 1994.

Parcel 9

Grenada Lake

Section 20, T24N, R7E

Grenada Co: Yalobusha MS 38901-0903

Property No.: 31199011021

Status: Underutilized

Comment: 23 acres; no utilities; intermittently used under lease—expires 1994.

Parcel 10

Grenada Lake

Sections 16, 17, 18 T24N R8E

Grenada Co: Calhoun MS 38901-0903

Property No.: 31199011022

Status: Underutilized

Comment: 490 acres; no utilities; intermittently used under lease—expires 1994.

Parcel 2

Grenada Lake

Section 20 and T23N, R5E

Grenada Co: Grenada MS 38901-0903

Property No.: 31199011023

Status: Underutilized

Comment: 60 acres; no utilities; most recent use—wildlife and forestry management.

Parcel 3

Grenada Lake

Section 4, T23N, R5E

Grenada Co: Yalobusha MS 38901-0903

Property No.: 31199011024

Status: Underutilized

Comment: 120 acres; no utilities; most recent use—wildlife and forestry management; (13.5 acres/agriculture lease).

Parcel 4

Grenada Lake

Section 2 and 3. T23N, R5E

Grenada Co: Yalobusha MS 38901-0903

Property No.: 31199011025

Status: Underutilized

Comment: 60 acres; no utilities; most recent use—wildlife and forestry management.

Parcel 5

Grenada Lake

Section 7, T24N, R6E

Grenada Co: Yalobusha MS 38901-0903

Property No.: 31199011026

Status: Underutilized

Comment: 20 acres; no utilities; most recent use—wildlife and forestry management; (14 acres/agriculture lease).

Parcel 6

Grenada Lake

Section 9, T24N, R6E

Grenada Co: Yalobusha MS 38903-0903

Property No.: 31199011027

Status: Underutilized

Comment: 80 acres; no utilities; most recent use—wildlife and forestry management.

Parcel 11

Grenada Lake

Section 20, T24N, R8E

Grenada Co: Calhoun MS 38901-0903

Property No.: 31199011028

Status: Underutilized

Comment: 30 acres; no utilities; most recent use—wildlife and forestry management.

Parcel 12

Grenada Lake

Section 25, T24N, R7E

Grenada Co: Yalobusha MS 38390-10903

Property No.: 31199011029

Status: Underutilized

Comment: 30 acres; no utilities; most recent use—wildlife and forestry management.

Parcel 13

Grenada Lake

Section 34, T24N, R7E

Grenada Co: Yalobusha MS 38903-0903

Property No.: 31199011030

Status: Underutilized

Comment: 35 acres; no utilities; most recent use—wildlife and forestry management; (11 acres/agriculture lease).

Parcel 14

Grenada Lake

Section 3, T23N, R6E

Grenada Co: Yalobusha MS 38901-0903

Property No.: 31199011031

Status: Underutilized

Comment: 15 acres; no utilities; most recent use—wildlife and forestry management.

Parcel 15

Grenada Lake

Section 4, T24N, R6E

Grenada Co: Yalobusha MS 38901-0903

Property No.: 31199011032

Status: Underutilized

Comment: 40 acres; no utilities; most recent use—wildlife and forestry management.

Parcel 16

Grenada Lake

Section 9, T23N, R6E

Grenada Co: Yalobusha MS 38901-0903

Property No.: 31199011033

Status: Underutilized

Comment: 70 acres; no utilities; most recent use—wildlife and forestry management.

Parcel 17

Grenada Lake

Section 17, T23N, R7E

Grenada Co: Grenada MS 28901-0903

Property No.: 31199011034

Status: Underutilized

Comment: 35 acres; no utilities; most recent use—wildlife and forestry management.

Parcel 18

Grenada Lake

Section 22, T23N, R7E

Grenada Co: Grenada MS 28902-0903

Property No.: 31199011035

Status: Underutilized

Comment: 10 acres; no utilities; most recent use—wildlife and forestry management.

Parcel 19

Grenada Lake

Section 9, T22N, R7E

Grenada Co: Grenada MS 38901-0903

Property No.: 31199011036

Status: Underutilized

Comment: 20 acres; no utilities; most recent use—wildlife and forestry management.

Missouri

Land

Harry S Truman Dam & Reservoir

Warsaw Co: Benton MO 65355-

Property No.: 31199030014

Location: Triangular shaped parcel southwest of access road “B”, part of Bledsoe Ferry Park Tract 150.

Status: Underutilized

Comment: 1.7 acres; potential utilities.

Montana

Building

Bldg. 1

Butte Natl Guard

Butte Co: Silverbow MT 59701

Property No.: 31200040010

Status: Unutilized

Comment: 22799 sq. ft., presence of asbestos, most recent use—cold storage, off-site use only

Bldg. 2

Butte Natl Guard

Butte Co: Silverbow MT 59701

Property No.: 31200040011

Status: Unutilized

Comment: 3292 sq. ft., most recent use—cold storage, off-site use only

Bldg. 3

Butte Natl Guard

Butte Co: Silverbow MT 59701

Property No.: 31200040012

Status: Unutilized

Comment: 964 sq. ft., most recent use—cold storage, off-site use only

Bldg. 4

Butte Natl Guard

Butte Co: Silverbow MT 59701

Property No.: 31200040013

Status: Unutilized

Comment: 72 sq. ft., most recent use—cold storage, off-site use only

Bldg. 5

Butte Natl Guard

Butte Co: Silverbow MT 59701

Property No.: 31200040014

Status: Unutilized

Comment: 1286 sq. ft., most recent use—cold storage, off-site use only

North Dakota

Building

Office Bldg.

Lake Oahe Project

3rd & Main

Ft. Yates Co: Sioux ND 58538

Property No.: 31200020001

Status: Unutilized

Comment: 1200 sq. ft., 2-story wood, off-site use only

Ohio

Building

Barker Historic House

Willow Island Locks and Dam

Newport Co: Washington OH 45768-9801

Property No.: 31199120018

Location: Located at lock site, downstream of lock and dam structure

Status: Unutilized

Comment: 1600 sq. ft. bldg. with ½ acre of land, 2 story brick frame, needs rehab, on Natl Register of Historic Places, no utilities, off-site use only

Residence

506 Reservoir Rd.

Paint Creek Lake

Bainbridge Co: Highland OH 45612

Property No.: 31200210008

Status: Unutilized

Comment: 1200 sq. ft., needs repair, off-site use only

Oklahoma

Land

Pine Creek Lake

Section 27

(See County) Co: McCurtain OK

Property No.: 31199010923

Status: Unutilized

Comment: 3 acres; no utilities; subject to right of way for Oklahoma State Highway 3.

Pennsylvania

Building

Mahoning Creek Reservoir

New Bethlehem Co: Armstrong PA 16242

Property No.: 31199210008

Status: Unutilized

Comment: 1015 sq. ft., 2 story brick residence, off-site use only

Dwelling

Lock & Dam 6, Allegheny River, 1260 River Rd.

Freeport Co: Armstrong PA 16229-2023

Property No.: 31199620008

Status: Unutilized

Comment: 2652 sq. ft., 3-story brick house, in close proximity to Lock and Dam, available for interim use for nonresidential purposes

Govt. Dwelling

Youghiogheny River Lake

Confluence Co: Fayette PA 15424-9103

Property No.: 31199640002

Status: Unutilized

Comment: 1421 sq. ft., 2-story brick w/basement, most recent use—residential

Dwelling

Lock & Dam 4, Allegheny River

Natrona Co: Allegheny PA 15065-2609

Property No.: 31199710009

Status: Unutilized

Comment: 1664 sq. ft., 2-story brick residence, needs repair, off-site use only

Dwelling #1

Crooked Creek Lake

Ford City Co: Armstrong PA 16226-8815

Property No.: 31199740002

Status: Excess

Comment: 2030 sq. ft., most recent use—residential, good condition, off-site use only

Dwelling #2

Crooked Creek Lake

Ford City Co: Armstrong PA 16226-8815

Property No.: 31199740003

Status: Excess

Comment: 3045 sq. ft., most recent use—residential, good condition, off-site use only

Govt Dwelling

East Branch Lake

Wilcox Co: Elk PA 15870-9709

Property No.: 31199740005

Status: Underutilized

Comment: approx. 5299 sq. ft., 1-story, most recent use—residence, off-site use only

Dwelling #1

Loyalhanna Lake

Saltsburg Co: Westmoreland PA 15681-9302

Property No.: 31199740006

Status: Excess

Comment: 1996 sq. ft., most recent use—residential, good condition, off-site use only

Dwelling #2

Loyalhanna Lake

Saltsburg Co: Westmoreland PA 15681-9302

Property No.: 31199740007

Status: Excess

Comment: 1996 sq. ft., most recent use—residential, good condition, off-site use only

Dwelling #1

Woodcock Creek Lake

Saegertown Co: Crawford PA 16433-0629

Property No.: 31199740008

Status: Excess

Comment: 2106 sq. ft., most recent use—residential, good condition, off-site use only

Dwelling #2

Lock & Dam 6, 1260 River Road

Freeport Co: Armstrong PA 16229-2023

Property No.: 31199740009

Status: Excess

Comment: 2652 sq. ft., most recent use—residential, good condition, off-site use only

Dwelling #2

Youghiogheny River Lake

Confluence Co: Fayette PA 15424-9103

Property No.: 31199830003

Status: Excess

Comment: 1421 sq. ft., 2-story + basement, most recent use—residential

Land

Mahoning Creek Lake

New Bethlehem Co: Armstrong PA 16242-9603

Property No.: 31199010018

Location: Route 28 north to Belknap, Road #4

Status: Excess

Comment: 2.58 acres; steep and densely wooded.

Tracts 610, 611, 612

Shenango River Lake

Sharpsville Co: Mercer PA 16150

Property No.: 31199011001

Location: I-79 North, I-80 West, Exit Sharon. R18 North 4 miles, left on R518, right on Mercer Avenue.

Status: Excess

Comment: 24.09 acres; subject to flowage easement

Tracts L24, L26

Crooked Creek Lake

Co: Armstrong PA 03051-

Property No.: 31199011011

Location: Left bank—55 miles downstream of dam.

Status: Unutilized

Comment: 7.59 acres; potential for utilities.

Portion of Tract L-21A

Crooked Creek Lake, LR 03051

Ford City Co: Armstrong PA 16226-

Property No.: 31199430012

Status: Unutilized

Comment: Approximately 1.72 acres of undeveloped land, subject to gas rights

South Dakota

Building

Residence/Tract 143

Pierre Co: SD 57532-

Property No.: 31200330008

Status: Excess

Comment: 960 sq. ft., off-site use only

Residence/Tract 420

Pierre Co: SD 57532-

Property No.: 31200330012

Status: Excess

Comment: 1680 sq. ft., off-site use only

Tennessee

Land

Tract 6827

Barkley Lake

Dover Co: Stewart TN 37058-

Property No.: 31199010927

Location: 2½ miles west of Dover, TN.

Status: Excess

Comment: .57 acres; subject to existing easements.

Tracts 6002-2 and 6010

Barkley Lake

Dover Co: Stewart TN 37058-

Property No.: 31199010928

Location: 3½ miles south of village of Tabaccoport.

Status: Excess

Comment: 100.86 acres; subject to existing easements.

Tract 11516

Barkley Lake

Ashland City Co: Dickson TN 37015-

Property No.: 31199010929

Location: ½ mile downstream from Cheatham Dam

Status: Excess

Comment: 26.25 acres; subject to existing easements.

Tract 2319

J. Percy Priest Dam and Reservoir

Murfreesboro Co: Rutherford TN 37130-

Property No.: 31199010930

Location: West of Buckeye Bottom Road

Status: Excess

Comment: 14.48 acres; subject to existing easements.

Tract 2227

J. Percy Priest Dam and Reservoir

Murfreesboro Co: Rutherford TN 37130-

Property No.: 31199010931

Location: Old Jefferson Pike

Status: Excess

Comment: 2.27 acres; subject to existing easements.

Tract 2107

J. Percy Priest Dam and Reservoir

Murfreesboro Co: Rutherford TN 37130-

Property No.: 31199010932

Location: Across Fall Creek near Fall Creek camping area.

Status: Excess

Comment: 14.85 acres; subject to existing easements.

Tracts 2601, 2602, 2603, 2604

Cordell Hull Lake and Dam Project

Doe Row Creek

Gainesboro Co: Jackson TN 38562-

Property No.: 31199010933

Location: TN Highway 56

Status: Unutilized

Comment: 11 acres; subject to existing easements.

Tract 1911

J. Percy Priest Dam and Reservoir

Murfreesboro Co: Rutherford TN 37130-

Property No.: 31199010934

Location: East of Lamar Road

Status: Excess

Comment: 6.92 acres; subject to existing easements.

Tract 7206

Barkley Lake

Dover Co: Stewart TN 37058-

Property No.: 31199010936

Location: 2½ miles SE of Dover, TN.

Status: Excess

Comment: 10.15 acres; subject to existing easements.

Tracts 8813, 8814

Barkley Lake

Cumberland Co: Stewart TN 37050-

Property No.: 31199010937

Location: 1½ miles East of Cumberland City.

Status: Excess

Comment: 96 acres; subject to existing easements.

Tract 8911

Barkley Lake

Cumberland City Co: Montgomery TN 37050-

Property No.: 31199010938

Location: 4 miles east of Cumberland City.

Status: Excess

Comment: 7.7 acres; subject to existing easements.

Tract 11503

Barkley Lake

Ashland City Co: Cheatham TN 37015-

Property No.: 31199010939

Location: 2 miles downstream from Cheatham Dam.

Status: Excess

Comment: 1.1 acres; subject to existing easements.

Tracts 11523, 11524

Barkley Lake

Ashland City Co: Cheatham TN 37015-

Property No.: 31199010940

Location: 2½ miles downstream from Cheatham Dam.

Status: Excess

Comment: 19.5 acres; subject to existing easements.

Tract 6410

Barkley Lake

Bumpus Mills Co: Stewart TN 37028-

Property No.: 31199010941

Location: 4½ miles SW. of Bumpus Mills.

Status: Excess

Comment: 17 acres; subject to existing easements.

Tract 9707

Barkley Lake

Palmyer Co: Montgomery TN 37142-

Property No.: 31199010943

Location: 3 miles NE of Palmyer, TN, Highway 149

Status: Excess

Comment: 6.6 acres; subject to existing easements.

Tract 6949

Barkley Lake

Dover Co: Stewart TN 37058-

Property No.: 31199010944

Location: 1½ miles SE of Dover, TN

Status: Excess

Comment: 29.67 acres; subject to existing easements.

Tracts 6005 and 6017

Barkley Lake

Dover Co: Stewart TN 37058-

Property No.: 31199011173

Location: 3 miles south of Village of Tobaccoport.

Status: Excess

Comment: 5 acres; subject to existing easements.

Tracts K-1191, K-1135

Old Hickory Lock and Dam

Hartsville Co: Trousdale TN 37074-

Property No.: 31199130007

Status: Underutilized

Comment: 54 acres, (portion in floodway), most recent use—recreation.

Tract A-102

Dale Hollow Lake & Dam Project

Canoe Ridge, State Hwy 52

Celina Co: Clay TN 38551-

Property No.: 31199140006

Status: Underutilized

Comment: 351 acres, most recent use—hunting, subject to existing easements.

Tract A-120

Dale Hollow Lake & Dam Project

Swann Ridge, State Hwy No. 53

Celina Co: Clay TN 38551-

Property No.: 31199140007

Status: Underutilized

Comment: 883 acres, most recent use—hunting, subject to existing easements.

Tract D-185

Dale Hollow Lake & Dam Project

Ashburn Creek, Hwy No. 53

Livingston Co: Clay TN 38570-

Property No.: 31199140010

Status: Underutilized

Comment: 97 acres, most recent use—hunting, subject to existing easements.

Virginia

Building

Metal Bldg.

John H. Kerr Dam & Reservoir

Co: Boydton VA

Property No.: 31199620009

Status: Excess

Comment: 800 sq. ft., most recent use—storage, off-site use only.

Wisconsin

Building

Former Lockmaster's Dwelling

Cedar Locks

4527 East Wisconsin Road

Appleton Co: Outagamie WI 54911-

Property No.: 31199011524

Status: Unutilized

Comment: 1224 sq. ft.; 2 story brick/wood frame residence; needs rehab; secured area with alternate access.

Former Lockmaster's Dwelling

Appleton 4th Lock 905 South Lowe Street

Appleton Co: Outagamie WI 54911-

Property No.: 31199011525

Status: Unutilized

Comment: 908 sq. ft.; 2 story wood frame residence; needs rehab.

Former Lockmaster's Dwelling

Kaukauna 1st Lock 301 Canal Street

Kaukauna Co: Outagamie WI 54131-

Property No.: 31199011527

Status: Unutilized

Comment: 1290 sq. ft.; 2 story wood frame residence; needs rehab; secured area with alternate access.

Former Lockmaster's Dwelling

Appleton 1st Lock 905 South Oneida Street

Appleton Co: Outagamie WI 54911-

Property No.: 31199011531

Status: Unutilized

Comment: 1300 sq. ft.; potential utilities; 2 story wood frame residence; needs rehab; secured area with alternate access.

Former Lockmaster's Dwelling

Rapid Croche Lock

Lock Road

Wrightstown Co: Outagamie WI 54180-

Property No.: 31199011533

Location: 3 miles southwest of intersection State Highway 96 and Canal Road.

Status: Unutilized

Comment: 1952 sq. ft.; 2 story wood frame residence; potential utilities; needs rehab.

Former Lockmaster's Dwelling

Little KauKauna Lock

Little KauKauna

Lawrence Co: Brown WI 54130-

Property No.: 31199011535

Location: 2 miles southeasterly from intersection of Lost Dauphin Road (County Trunk Highway “D”) and River Street.

Status: Unutilized

Comment: 1224 sq. ft.; 2 story brick/wood frame residence; needs rehab.

Former Lockmaster's Dwelling

Little Chute, 2nd Lock 214 Mill Street

Little Chute Co: Outagamie WI 54140-

Property No.: 31199011536

Status: Unutilized

Comment: 1224 sq. ft.; 2 story brick/wood frame residence; potential utilities; needs rehab; secured area with alternate access.

Energy

Idaho

Building

Bldg. CF603

Idaho Natl Eng & Env Lab

Scoville Co: Butte ID 83415-

Property No.: 41200020004

Status: Excess

Comment: 15,005 sq. ft. cinder block, presence of asbestos/lead paint, major rehab, off-site use only

GSA

California

Building

Bell Federal Service Center

5600 Rickenbacker Road

Bell Co: Los Angeles CA 90201-

Property No.: 54200320009

Status: Excess

Comment: Correction/Republished: 7 bldgs., various sq. ft., need repair, portion occupied, restricted access, presence of asbestos/lead paint/PCBs, most recent use—warehouse/office

GSA Number: 9-G-CA-06984

SSA Building

1230 12th Street

Modesto Co: CA 95354-

Property No.: 54200330003

Status: Surplus

Comment: 11,957 sq. ft., needs repair, presence of asbestos/lead paint, most recent use—office

GSA Number: 9-G-CA-1610

Colorado

Building

Strategic Range Tng Complex

Industrial Park

LaJunta Co: Otero CO 81050-9501

Property No.: 54200330013

Status: Surplus

Comment: Main bldg. with 6 storage bldgs.

GSA Number: 7-D-CO-0648

Illinois

Building

Soc. Sec. Admin. Ofc.

525 18th Street

Rock Island Co: IL

Property No.: 54200310017

Status: Surplus

Comment: 5800 sq. ft., most recent use—office

GSA Number: 1-G-IL-730

Indiana

Building

Soc. Sec. Admin. Ofc.

327 West Marion

Elkhart Co: IN

Property No.: 54200310016

Status: Surplus

Comment: 6600 sq. ft., most recent use—office

GSA Number: 1-G-IN-596

Paulsen U.S. Army Reserve Ctr

800 East Crystal

N. Judson Co: Starke IN 46366-

Property No.: 54200330001

Status: Surplus

Comment: 13,114 sq. ft., presence of asbestos/lead paint, most recent use—office/training/vehicle maint. and repair

GSA Number: 1-D-IN-597

Iowa

Building

Fed Bldg/Courthouse

350 W 6th Street

Dubuque Co: IA 52001-

Property No.: 54200330014

Status: Excess

Comment: 45,729 sq. ft., needs repair, portion occupied, most recent use—office, historic covenants

GSA Number: 7-G-IA-0495-1

23 Buildings

Former Naval Housing

Waverly Co: Bremer IA 50677-

Property No.: 54200340006

Status: Surplus

Comment: 2 to 3 bedroom homes, 864 to 1760 sq. ft., presence of asbestos/lead paint

GSA Number: 7-I-IA-0463-5

Louisiana

Building

SSA Baton Rouge Dist. Ofc.

350 Donmoor Avenue

Baton Rouge Co: LA 70806-

Property No.: 54200330005

Status: Surplus

Comment: 9456 sq. ft., most recent use—office

GSA Number: 7-G-LA-0567

Michigan

Building

Detroit Job Corp Center

10401 E. Jefferson

1265 St. Clair

Detroit Co: Wayne MI

Property No.: 54200230012

Status: Surplus

Comment: Parcel One = 80,590 sq. ft. bldg., needs repair, presence of asbestos; Parcel Two = 5140 sq. ft. bldg.

GSA Number: 2-L-MI-757

Land

IOM Site

Chesterfield Road

Chesterfield Co: Macomb MI

Property No.: 54200340008

Status: Excess

Comment : approx. 17.4 acres w/concrete block bldg. in poor condition, most recent use—radio antenna field, narrow right-of-way

GSA Number: 1-D-MI-0603F

Nevada

Building

Young Fed Bldg/Courthouse 300 Booth Street

Reno Co: NV 89502-

Property No.: 54200330006

Status: Surplus

Comment: 133,439 sq. ft. (85,637 sq. ft. available), presence of asbestos/lead paint

GSA Number: 9-G-NV-529

New Mexico

Land

H Marker Facility

Roswell Co: Chaves NM 88201-

Property No.: 54200330011

Status: Surplus

Comment: 12.398 acres, subject to existing easements

GSA Number: 7-U-NM-0587

Utah

Land

0.5 acres

2968 W. Alice Way

West Valley Co: Salt Lake UT 84119-

Property No.: 54200340004

Status: Excess

Comment: paved

GSA Number: 7-U-UT-0515

Interior

Washington

Building

Bldg. 88

1917 Marsh Road

Yakima Co: WA 98901-

Property No.: 61200340007

Status: Unutilized

Comment: 1032 sq. ft., presence of asbestos/lead paint, most recent use—office, off-site use only

Land

15.1 acres

Road I8NE & Road 36NE

Coulee City Co: Grant WA 99115-

Property No.: 61200310002

Status: Excess

Comment: subject to existing easements/substation site

Navy

California

Building

Bldg. 199

Naval Postgraduate School

Monterey Co: CA 93943-

Property No.: 77200310003

Status: Excess

Comment: 2186 sq. ft., gold pro shop, presence of asbestos/lead paint

Hawaii

Building

Bldg. 442, Naval Station

Ford Island

Pearl Harbor Co: Honolulu HI 96860-

Property No.: 77199630088

Status: Excess

Comment: 192 sq. ft., most recent use—storage, off-site use only

Bldg. S180

Naval Station, Ford Island

Pearl Harbor Co: Honolulu HI 96860-

Property No.: 77199640039

Status: Unutilized

Comment: 3412 sq. ft., 2-story, most recent use—bomb shelter, off-site use only, relocation may not be feasible

Bldg. S181

Naval Station, Ford Island

Pearl Harbor Co: Honolulu HI 96860-

Property No.: 77199640040

Status: Unutilized

Comment: 4258 sq. ft., 1-story, most recent use—bomb shelter, off-site use only, relocation may not be feasible

Bldg. 219

Naval Station, Ford Island

Pearl Harbor Co: Honolulu HI 96860-

Property No.: 77199640041

Status: Unutilized

Comment: 620 sq. ft., most recent use—damage control, off-site use only, relocation may not be feasible

Bldg. 220

Naval Station, Ford Island

Pearl Harbor Co: Honolulu HI 96860-

Property No.: 77199640042

Status: Unutilized

Comment: 620 sq. ft., most recent use—damage control, off-site use only, relocation may not be feasible

Bldg. 255

Navy Marine Golf Course

Pearl Harbor Co: HI 96860-

Property No.: 77200340042

Status: Excess

Comment: 1946 sq. ft., possible asbestos/lead paint, most recent use—guest quarters, off-site use only

Maine

Building

Bldg. 20

Naval Air Station

Brunswick Co: Cumberland ME

Property No.: 77200340026

Status: Excess

Comment: 25,871 sq. ft., most recent use—office, off-site use only

Bldg. 41

Naval Air Station

Brunswick Co: Cumberland ME-

Property No.: 77200340027

Status: Excess

Comment: 10,526 sq. ft., most recent use—police station, off-site use only

Bldg. 109

Naval Air Station

Brunswick Co: Cumberland ME

Property No.: 77200340028

Status: Excess

Comment: 529 sq. ft., most recent use—dog kennel, off-site use only

Bldg. 225

Naval Air Station

Brunswick Co: Cumberland ME

Property No.: 77200340029

Status: Excess

Comment: 15,020 sq. ft., most recent use—auto maintenance, off-site use only

Bldg. 252

Naval Air Station

Brunswick Co: Cumberland ME

Property No.: 77200340030

Status: Excess

Comment: 5100 sq. ft., most recent use—auto maintenance, off-site use only

Bldg. H-10

Portsmouth Naval Shipyard

Kittery Co: York ME

Property No.: 77200340031

Status: Excess

Comment: 27,201 sq. ft., presence of asbestos/lead paint, most recent use—support functions, off-site use only

Bldg. H-25

Portsmouth Naval Shipyard

Kittery Co: York ME

Property No.: 77200340032

Status: Excess

Comment: 1573 sq. ft., presence of asbestos/lead paint, most recent use—storage, off-site use only

Bldg. H-30

Portsmouth Naval Shipyard

Kittery Co: York ME

Property No.: 77200340033

Status: Excess

Comment: 523 sq. ft., presence of asbestos/lead paint, most recent use—storage, off-site use only

Bldg. 46

Portsmouth Naval Shipyard

Kittery Co: York ME

Property No.: 77200340034

Status: Excess

Comment: 2992 sq. ft., presence of asbestos/lead paint, most recent use—shredding facility, off-site use only

Bldg. 75

Portsmouth Naval Shipyard

Kittery Co: York ME 03904-

Property No.: 77200340035

Status: Excess

Comment: 44,818 sq. ft., presence of asbestos/lead paint, most recent use—shop, off-site use only

Bldg. 76

Portsmouth Naval Shipyard

Kittery Co: York ME

Property No.: 77200340036

Status: Excess

Comment: 37,466 sq. ft., presence of asbestos/lead paint, most recent use—shop, off-site use only

Bldg. 85

Portsmouth Naval Shipyard

Kittery Co: York ME

Property No.: 77200340037

Status: Excess

Comment: 742 sq. ft., presence of asbestos/lead paint, off-site use only

Bldg. 157

Portsmouth Naval Shipyard

Kittery Co: York ME

Property No.: 77200340038

Status: Excess

Comment: 640 sq. ft., presence of asbestos/lead paint, most recent use—office, off-site use only

Bldg. 184

Portsmouth Naval Shipyard

Kittery Co: York ME

Property No.: 77200340039

Status: Excess

Comment: 10,610 sq. ft., presence of asbestos/lead paint, most recent use—offices, off-site use only

Maryland

Building

9 Housing Units

U.S. Naval Station

Annapolis Co: Anne Arundel MD 21402-

Property No.: 77200240005

Status: Excess

Comment: size varies, brick veneer wood frame on slab, off-site use only

New Jersey

Building

Bldg. MA-1

Naval Weapons Station

Colts Neck Co: NJ 07722

Property No.: 77200310007

Status: Unutilized

Comment: 7200 sq. ft., presence of asbestos/lead paint, off-site use only

Bldg. 5A

Naval Weapons Station

Colts Neck Co: NJ

Property No.: 77200310008

Status: Unutilized

Comment: 687 sq. ft., most recent use—storage, off-site use only

Bldg. R-17

Naval Weapons Station

Colts Neck Co: NJ 07722-

Property No.: 77200310009

Status: Unutilized

Comment: 1134 sq. ft., presence of asbestos/lead paint, most recent use—storage, off-site use only

Bldg. C-32A

Naval Weapons Station

Colts Neck Co: NJ 07722-

Property No.: 77200310010

Status: Unutilized

Comment: 255 sq. ft., off-site use only

Bldg. S-331

Naval Weapons Station

Colts Neck Co: NJ 07722-

Property No.: 77200310011

Status: Unutilized

Comment: 256 sq. ft., presence of asbestos/lead paint, most recent use—storage, off-site use only

Bldg. 513

Naval Weapons Station

Colts Neck Co: NJ 07722-

Property No.: 77200310012

Status: Unutilized

Comment: 1647 sq. ft., presence of asbestos/lead paint, off-site use only

VA

Alabama

Land

VA Medical Center

VAMC

Tuskegee Co: Macon AL 36083-

Property No.: 97199010053

Status: Underutilized

Comment: 40 acres, buffer to VA Medical Center, potential utilities, undeveloped.

California

Land

Land 4150 Clement Street

San Francisco Co: San Francisco CA 94121-

Property No.: 97199240001

Status: Underutilized

Comment: 4 acres; landslide area.

Indiana

Building

Bldg. 105, VAMC

East 38th Street

Marion Co: Grant IN 46952-

Property No.: 97199230006

Status: Excess

Comment: 310 sq. ft., 1 story stone structure, no sanitary or heating facilities, Natl Register of Historic Places

Bldg. 140, VAMC

East 38th Street

Marion Co: Grant IN 46952-

Property No.: 97199230007

Status: Excess

Comment: 60 sq. ft., concrete block bldg., most recent use—trash house

Bldg. 7

VA Northern Indiana Health Care System

Marion Campus, 1700 East 38th Street

Marion Co: Grant IN 46953-

Property No.: 97199810001

Status: Underutilized

Comment: 16,864 sq. ft., presence of asbestos, most recent use—psychiatric ward, National Register of Historic Places

Bldg. 10

VA Northern Indiana Health Care System

Marion Campus, 1700 East 38th Street

Marion Co: Grant IN 46953-

Property No.: 97199810002

Status: Underutilized

Comment: 16,361 sq. ft., presence of asbestos, most recent use—psychiatric ward, National Register of Historic Places

Bldg. 11

VA Northern Indiana Health Care System

Marion Campus, 1700 East 38th Street

Marion Co: Grant IN 46953-

Property No.: 97199810003

Status: Underutilized

Comment: 16,361 sq. ft., presence of asbestos, most recent use—psychiatric ward, National Register of Historic Places

Bldg. 18

VA Northern Indiana Health Care System

Marion Campus, 1700 East 38th Street

Marion Co: Grant IN 46953-

Property No.: 97199810004

Status: Underutilized

Comment: 13,802 sq. ft., presence of asbestos, most recent use—psychiatric ward, National Register of Historic Places

Bldg. 25

VA Northern Indiana Health Care System

Marion Campus, 1700 East 38th Street

Marion Co: Grant IN 46953-

Property No.: 97199810005

Status: Unutilized

Comment: 32,892 sq. ft., presence of asbestos, most recent use—psychiatric ward, National Register of Historic Places

Bldg. 1

N. Indiana Health Care System

Marion Co: Grant IN 46952-

Property No.: 97200310001

Status: Unutilized

Comment: 20,287 sq. ft., needs extensive repairs, presence of asbestos, most recent use—patient ward

Bldg. 3

N. Indiana Health Care System

Marion Co: Grant IN 46952-

Property No.: 97200310002

Status: Unutilized

Comment: 20,550 sq. ft., needs extensive repairs, presence of asbestos, most recent use—patient ward

Bldg. 4

N. Indiana Health Care System

Marion Co: Grant IN 46952-

Property No.: 97200310003

Status: Unutilized

Comment: 20,550 sq .ft., needs extensive repairs, presence of asbestos, most recent use—patient ward

Bldg. 13

N. Indiana Health Care System

Marion Co: Grant IN 46952-

Property No.: 97200310004

Status: Unutilized

Comment: 8971 sq. ft., needs extensive repairs, presence of asbestos, most recent use—office

Bldg. 19

N. Indiana Health Care System

Marion Co: Grant IN 46952-

Property No.: 97200310005

Status: Unutilized

Comment: 12,237 sq. ft., needs extensive repairs, presence of asbestos, most recent use—office

Bldg. 20

N. Indiana Health Care System

Marion Co: Grant IN 46952-

Property No.: 97200310006

Status: Unutilized

Comment: 14,039 sq. ft., needs extensive repairs, presence of asbestos, most recent use—office/storage

Bldg. 42

N. Indiana Health Care System

Marion Co: Grant IN 46952-

Property No.: 97200310007

Status: Unutilized

Comment: 5025 sq. ft., needs extensive repairs, presence of asbestos, most recent use—office

Bldg. 60

N. Indiana Health Care System

Marion Co: Grant IN 46952-

Property No.: 97200310008

Status: Unutilized

Comment: 18,126 sq. ft., needs extensive repairs, presence of asbestos, most recent use—office

Bldg. 122

N. Indiana Health Care System

Marion Co: Grant IN 46952-

Property No.: 97200310009

Status: Unutilized

Comment: 37,135 sq. ft., needs extensive repairs, presence of asbestos, most recent use—dining hall/kitchen

Iowa

Land

40.66 acres

VA Medical Center

1515 West Pleasant St.

Knoxville Co: Marion IA 50138-

Property No.: 97199740002

Status: Unutilized

Comment: golf course, easement requirements

Pennsylvania

Building

Bldg. 3, VAMC

1700 South Lincoln Avenue

Lebanon Co: Lebanon PA 17042-

Property No.: 97199230012

Status: Underutilized

Comment: portion of bldg. (4046 sq. ft.), most recent use—storage, second floor—lacks elevator access

Texas

Land

Land

Olin E. Teague Veterans Center

1901 South 1st Street

Temple Co: Bell TX 76504-

Property No.: 97199010079

Status: Underutilized

Comment: 13 acres, portion formerly landfill, portion near flammable materials, railroad crosses property, potential utilities.

Wisconsin

Building

Bldg. 8

VA Medical Center

County Highway E

Tomah Co: Monroe WI 54660-

Property No.: 97199010056

Status: Underutilized

Comment: 2200 sq. ft., 2 story wood frame, possible asbestos, potential utilities, structural deficiencies, needs rehab.

Land

VA Medical Center

County Highway E

Tomah Co: Monroe WI 54660-

Property No.: 97199010054

Status: Underutilized

Comment: 12.4 acres, serves as buffer between center and private property, no utilities.

Title V Properties Reported in Year 2003 Which Are Suitable and Unavailable

Air Force

Colorado

Building

Bldg. 100

La Junta Strategic Range

La Junta Co: Otero CO 81050-9501

Property No.: 18200230001

Status: Excess

Reason: interest expressed

Bldg. 101

La Junta Strategic Range

La Junta Co: Otero CO 81050-9501

Property No.: 18200230002

Status: Excess

Reason: interest expressed

Bldg. 102

La Junta Strategic Range

La Junta Co: Otero CO 81050-9501

Property No.: 18200230003

Status: Excess

Reason: interest expressed

Bldg. 103

La Junta Strategic Range

La Junta Co: Otero CO 81050-9501

Property No.: 18200230004

Status: Excess

Reason: interest expressed

Bldg. 104

La Junta Strategic Range

La Junta Co: Otero CO 81050-9501

Property No.: 18200230005

Status: Excess

Reason: interest expressed

Bldg. 106

La Junta Strategic Range

La Junta Co: Otero CO 81050-9501

Property No.: 18200230006

Status: Excess

Reason: interest expressed

Idaho

Building

Bldg. 224

Mountain Home Air Force

Co: Elmore ID 83648-

Property No.: 18199840008

Status: Unutilized

Reason: Extension of runway

Iowa

Building

Bldg. 00669

Sioux Gateway Airport

Sioux City Co: Woodbury IA 51110-

Property No.: 18199310002

Status: Unutilized

Reason: Will be transferred to Sioux City

New York

Building

Bldg. 1225

Verona Text Annex

Verona Co: Oneida NY 13478-

Property No.: 18200220014

Status: Unutilized

Reason: Held in trust

Bldg. 1226

Verona Test Annex

Verona Co: Oneida NY 13478-

Property No.: 18200220015

Status: Unutilized

Reason: Held in trust

Bldg. 1227

Verona Text Annex

Verona Co: Oneida NY 13478-

Property No.: 18200220016

Status: Unutilized

Reason: Held in trust

Bldg. 1231

Verona Test Annex

Verona Co: Oneida NY 13478-

Property No.: 18200220017

Status: Unutilized

Reason: Held in trust

Bldg. 1233

Verona Test Annex

Verona Co: Oneida NY 13478-

Property No.: 18200220018

Status: Unutilized

Reason: Held in trust

Bldgs. 1235, 1239

Verona Test Annex

Verona Co: Oneida NY 13478-

Property No.: 18200220019

Status: Unutilized

Reason: Held in trust

Bldg. 1241

Verona Test Annex

Verona Co: Oneida NY 13478-

Property No.: 18200220020

Status: Unutilized

Reason: Held in trust

Bldg. 1243

Verona Test Annex

Verona Co: Oneida NY 13478-

Property No.: 18200220021

Status: Unutilized

Reason: Held in trust

Bldg. 1245

Verona Test Annex

Verona Co: Oneida NY 13478-

Property No.: 18200220022

Status: Unutilized

Reason: Held in trust

Bldg. 1247

Verona Test Annex

Verona Co: Oneida NY 13478-

Property No.: 18200220023

Status: Unutilized

Reason: Held in trust

Bldg. 1250 + land

Verona Test Annex

Verona Co: Oneida NY 13478-

Property No.: 18200220024

Status: Unutilized

Reason: Held in trust

Bldg. 1253

Verona Test Annex

Verona Co: Oneida NY 13478-

Property No.: 18200220025

Status: Unutilized

Reason: Held in trust

Bldg. 1255

Verona Test Annex

Verona Co: Oneida NY 13478-

Property No.: 18200220026

Status: Unutilized

Reason: Held in trust

Bldg. 1261

Verona Test Annex

Verona Co: Oneida NY 13478-

Property No.: 18200220027

Status: Unutilized

Reason: Held in trust

Bldg. 1263

Verona Test Annex

Verona Co: Oneida NY 13478-

Property No.: 18200220028

Status: Unutilized

Reason: Held in trust

Bldgs. 1266, 1269

Verona Test Annex

Verona Co: Oneida NY 13478-

Property No.: 18200220029

Status: Unutilized

Reason: Held in trust

Bldg. 1271

Verona Test Annex

Verona Co: Oneida NY 13478-

Property No.: 18200220030

Status: Unutilized

Reason: Held in trust

Bldg. 1273

Verona Test Annex

Verona Co: Oneida NY 13478-

Property No.: 18200220031

Status: Unutilized

Reason: Held in trust

Bldg. 1277

Verona Test Annex

Verona Co: Oneida NY 13478-

Property No.: 18200220032

Status: Unutilized

Reason: Held in trust

Bldg. 1279

Verona Test Annex

Verona Co: Oneida NY 13478-

Property No.: 18200220033

Status: Unutilized

Reason: Held in trust

Bldg. 1285

Verona Test Annex

Verona Co: Oneida NY 13478-

Property No.: 18200220034

Status: Unutilized

Reason: Held in trust

Bldg. 1287

Verona Test Annex

Verona Co: Oneida NY 13478-

Property No.: 18200220035

Status: Unutilized

Reason: Held in trust

Pennsylvania

Building

Bldg. 201

Pittsburgh IAP

Coraopolis Co: Allegheny PA 15108-

Property No.: 18200240014

Status: Excess

Reason: mission use

Bldg. 203

Pittsburgh IAP

Coraopolis Co: Allegheny PA 15108-

Property No.: 18200240015

Status: Excess

Reason: mission use

Bldg. 208

Pittsburgh IAP

Coraopolis Co: Allegheny PA 15108-

Property No.: 18200240016

Status: Excess

Reason: mission use

Bldg. 210

Pittsburgh IAP

Coraopolis Co: Allegheny PA 15108-

Property No.: 18200240017

Status: Excess

Reason: mission use

Bldg. 211

Pittsburgh IAP

Coraopolis Co: Allegheny PA 15108-Property No.: 18200240018

Status: Excess

Reason: mission use

South Dakota

Land

Tract 133

Ellsworth AFB

Box Elder Co: Pennington SD 57706-

Property No.: 18200310004

Status: Unutilized

Reason: Special Legislation

Tract 67

Ellsworth AFB

Box Elder Co: Pennington SD 57706-

Property No.: 18200310005

Status: Unutilized

Reason: mission purpose

Army

Alabama

Building

Bldgs. 1001-1006, 1106-1107

Fort Rucker

Ft. Rucker Co: Dale AL 36362-5138

Property No.: 21200210027

Status: Unutilized

Reason: utilized

Bldg. 01433

Fort Rucker

Ft. Rucker Co: Dale AL 36362-

Property No.: 21200220098

Status: Excess

Reason: being utilized

Bldg. 24220

Fort Rucker

Ft. Rucker Co: Dale AL 36362-

Property No.: 21200320093

Status: Unutilized

Reason: occupied

Alaska

Building

Bldgs. 345, 347

Ft. Richardson

Ft. Richardson Co: AK 99505-6500

Property No.: 21200320094

Status: Excess

Reason: occupied

Bldgs. 354, 357, 359

Ft. Richardson

Ft. Richardson Co: AK 99505-6500

Property No.: 21200320095

Status: Excess

Reason: occupied

Bldg. 368

Ft. Richardson

Ft. Richardson Co: AK 99505-6500

Property No.: 21200320096

Status: Excess

Reason: occcupied

Bldg. 370

Ft. Richardson

Ft. Richardson Co: AK 99505-6500

Property No.: 21200320097

Status: Excess

Reason: occupied

Arizona

Building

Bldg. 00701

Yuma Proving Ground

Yuma Co: AZ 85365-9498

Property No.: 21200340077

Status: Unutilized

Reason: occupied

Bldg. 00702

Yuma Proving Ground

Yuma Co: AZ 85365-9498

Property No.: 21200340078

Status: Unutilized

Reason: occupied

Colorado

Building

Bldg. T-203

Fort Carson

Ft. Carson Co: El Paso CO 80913-

Property No.: 21200340079

Status: Unutilized

Reason: occupied

Bldgs. T-223 thru T-227

Fort Carson

Ft. Carson Co: El Paso CO 80913-

Property No.: 21200340081

Status: Unutilized

Reason: occupied

Bldg. S6222

Fort Carson

Ft. Carson Co: El Paso CO 80913-

Property No.: 21200340082

Status: Unutilized

Reason: occupied

Bldg. S6264

Fort Carson

Ft. Carson Co: El Paso CO 80913-

Property No.: 21200340084

Status: Unutilized

Reason: occupied

Georgia

Building

Bldg. 4090

Fort Benning

Ft. Benning Co: Muscogee GA 31905-

Property No.: 21199630007

Status: Underutilized

Reason: Plan to utilize as a museum

Bldg. 2410

Fort Gordon

Ft. Gordon Co: Richmond GA 30905-

Property No.: 21200140076

Status: Unutilized

Reason: change in mission requirement

Bldg. 20802

Fort Gordon

Ft. Gordon Co: Richmond GA 30905-

Property No.: 21200210078

Status: Unutilized

Reason: utilized

Bldg. T-920

Fort Stewart

Hinesville Co: Liberty GA 31314-

Property No.: 21200240083

Status: Excess

Reason: mission use

Bldgs. 00960, 00961, 00963

Fort Benning

Ft. Benning Co: Chattahoochee GA

Property No.: 21200330107

Status: Unutilized

Reason: occupied

Indiana

Building

Bldg. 301

Fort Benjamin Harrison

Indianapolis Co: Marion IN 45216-

Property No.: 21200320098

Status: Unutilized

Reason: occupied

Bldg. 302

Fort Benjamin Harrison

Indianapolis Co: Marion IN 46216-

Property No.: 21200320099

Status: Unutilized

Reason: occupied

Bldg. 303

Fort Benjamin Harrison

Indianapolis Co: Marion IN 46216-

Property No.: 21200320100

Status: Unutilized

Reason: occupied

Bldg. 304

Fort Benjamin Harrison

Indianapolis Co: Marion IN 46216-

Property No.: 21200320101

Status: Unutilized

Reason: occupied

Bldg. 334

Fort Benjamin Harrison

Indianapolis Co: Marion IN 46216-

Property No.: 21200320102

Status: Unutilized

Reason: occupied

Bldg. 337

Fort Benjamin Harrison

Indianapolis Co: Marion IN 46216-

Property No.: 21200320103

Status: Unutilized

Reason: occupied

Maryland

Building

Bldg. 2282C

Fort George G. Meade

Fort Meade Co: Anne Arundel MD 20755-

Property No.: 21200230059

Status: Unutilized

Reason: secured

Bldg. 05257

Aberdeen Proving Grounds

Aberdeen Co: Harford MD 21005-

Property No.: 21200320134

Status: Unutilized

Reason: collapsed

Missouri

Building

Bldg. 2172

Fort Leonard Wood

Ft. Leonard Wood Co: Pulaski MO 65473-8994

Property No.: 21200040059

Status: Unutilized

Reason: reutilized

Bldg. 1230

Fort Leonard Wood

Ft. Leonard Wood Co: Pulaski MO 65743-8944

Property No.: 21200340087

Status: Unutilized

Reason: occupied

Bldg. 1621

Fort Leonard Wood

Ft. Leonard Wood Co: Pulaski MO 65743-8944

Property No.: 21200340088

Status: Unutilized

Reason: occupied

Bldg. 03289

Fort Leonard Wood

Ft. Leonard Wood Co: Pulaski MO 65743-8944

Property No.: 21200340089

Status: Unutilized

Reason: occupied

Bldg. 03291

Fort Leonard Wood

Ft. Leonard Wood Co: Pulaski MO 65743-8944

Property No.: 21200340090

Status: Unutilized

Reason: occupied

Bldg. 6822

Fort Leonard Wood

Ft. Leonard Wood Co: Pulaski MO 65743-8944

Property No.: 21200340091

Status: Unutilized

Reason: occupied

Bldg. 9000

Fort Leonard Wood

Ft. Leonard Wood Co: Pulaski MO 65743-8944

Property No.: 21200340092

Status: Unutilized

Reason: occupied

Bldg. 10201

Fort Leonard Wood

Ft. Leonard Wood Co: Pulaski MO 65743-8944

Property No.: 21200340093

Status: Unutilized

Reason: occupied

New York

Building

Bldgs. 1511-1518

U.S. Military Academy

Training Area

Highlands Co: Orange NY 10996-

Property No.: 21200320160

Status: Unutilized

Reason: occupied

Bldgs. 1523-1526

U.S. Military Academy

Training Area

Highlands Co: Orange NY 10996-

Property No.: 21200320161

Status: Unutilized

Reason: occupied

Bldgs. 1704-1705, 1721-1722

U.S. Military Academy

Training Area

Highlands Co: Orange NY 10996-

Property No.: 21200320162

Status: Unutilized

Reason: occupied

Bldg. 1723

U.S. Military Academy

Training Area

Highlands Co: Orange NY 10996-

Property No.: 21200320163

Status: Unutilized

Reason: occupied

Bldgs. 1706-1709

U.S. Military Academy

Training Area

Highlands Co: Orange NY 10996-

Property No.: 21200320164

Status: Unutilized

Reason: occupied

Bldgs. 1731-1735

U.S. Military Academy

Training Area

Highlands Co: Orange NY 10996-

Property No.: 21200320165

Status: Unutilized

Reason: occupied

North Carolina

Building

Bldgs. A2245, A2345

Fort Bragg

Ft. Bragg Co: Cumberland NC 28310-

Property No.: 21200240084

Status: Excess

Reason: mission use

Bldg. A2544

Fort Bragg

Ft. Bragg Co: Cumberland NC-

Property No.: 21200240085

Status: Excess

Reason: mission use

Bldg. D2826

Fort Bragg

Ft. Bragg Co: Cumberland NC 28310-

Property No.: 21200240086

Status: Excess

Reason: mission use

Bldg. N4116

Fort Bragg

Ft. Bragg Co: Cumberland NC 28310-

Property No.: 21200240087

Status: Excess

Reason: mission use

103 Bldgs.

Fort Bragg

Ft. Bragg Co: Cumberland NC 28310-5000

Property No.: 21200240088

Status: Excess

Reason: mission use

Pennsylvania

Building

Bldg. 00001

Defense Distribution Depot

New Cumberland Co: York PA 17070-5002

Property No.: 21200330183

Status: Unutilized

Reason: occupied

Bldg. 00002

Defense Distribution Depot

New Cumberland Co: York PA 17070-5002

Property No.: 21200330184

Status: Unutilized

Reason: occupied

Bldgs. 00004, 00005, 00006

Defense Distribution Depot

New Cumberland Co: York PA 17070-5002

Property No.: 21200330185

Status: Unutilized

Reason: occupied

Bldg. 00013

Defense Distribution Depot

New Cumberland Co: York PA 17070-5002

Property No.: 21200330186

Status: Unutilized

Reason: occupied

Bldg. 00024

Defense Distribution Depot

New Cumberland Co: York PA 17070-500

Property No.: 21200330187

Status: Unutilized

Reason: occupied

Bldg. 00025

Defense Distribution Depot

New Cumberland Co: York PA 17070-5002

Property No.: 21200330188

Status: Unutilized

Reason: occupied

Bldg. 00028

Defense Distribution Depot

New Cumberland Co: York PA 17070-5002

Property No.: 21200330189

Status: Unutilized

Reason: occupied

Bldg. 00064

Defense Distribution Depot

New Cumberland Co: York PA 17070-5002

Property No.: 21200330190

Status: Unutilized

Reason: occupied

Bldg. 00068

Defense Distribution Depot

New Cumberland Co: York PA 17070-5002

Property No.: 21200330191

Status: Unutilized

Reason: occupied

Bldg. 00078

Defense Distribution Depot

New Cumberland Co: York PA 17070-5002

Property No.: 21200330192

Status: Unutilized

Reason: occupied

Bldg. 00095

Defense Distribution Depot

New Cumberland Co: York PA 17070-5002

Property No.: 21200330193

Status: Unutilized

Reason: occupied

Bldg. 00096

Defense Distribution Depot

New Cumberland Co: York PA 17070-5002

Property No.: 21200330194

Status: Unutilized

Reason: occupied

Bldg. 00097

Defense Distribution Depot

New Cumberland Co: York PA 17070-5002

Property No.: 21200330195

Status: Unutilized

Reason: occupied

Bldg. 02010

Defense Distribution Depot

New Cumberland Co: York PA 17070-5002

Property No.: 21200330196

Status: Unutilized

Reason: occupied

Tennessee

Building

Bldgs. 01551, 01552

Fort Campbell

Ft. Campbell Co: Montgomery TN 42223-

Property No.: 21200230076

Status: Unutilized

Reason: utilized

Texas

Building

Bldgs. 4219, 4227

Fort Hood

Ft. Hood Co: Bell TX 76544-

Property No.: 21200220139

Status: Unutilized

Reason: admin use

Bldgs. 4229, 4230, 4231

Fort Hood

Ft. Hood Co: Bell TX 76544-

Property No.: 21200220140

Status: Unutilized

Reason: admin use

Bldgs. 4244, 4246

Fort Hood

Ft. Hood Co: Bell TX 76544-

Property No.: 21200220141

Status: Unutilized

Reason: admin use

Bldgs. 4260, 4261, 4262

Fort Hood

Ft. Hood Co: Bell TX 76544-

Property No.: 21200220142

Status: Unutilized

Reason: admin use

Virginia

Building

Bldg. T2827

Fort Pickett

Blackstone Co: Nottoway VA 23824-

Property No.: 21200320172

Status: Unutilized

Reason: occupied

Bldg. T2841

Fort Pickett

Blackstone Co: Nottoway VA 23824-

Property No.: 21200320173

Status: Unutilized

Reason: occupied

Washington

Building

Bldg. 03272

Fort Lewis

Tacoma Co: Pierce WA 98335-

Property No.: 21200220160

Status: Unutilized

Reason: utilized

Bldg. 04180

Fort Lewis

Ft. Lewis Co: Pierce WA 98433-9500

Property No.: 21200240091

Status: Excess

Reason: mission use

Bldg. 05904

Fort Lewis

Ft. Lewis Co: Pierce WA 98433-9500

Property No.: 21200240092

Status: Excess

Reason: mission use

Bldgs. 9003, 9517

Fort Lewis

Ft. Lewis Co: Pierce WA 98433-9500

Property No.: 21200240093

Status: Excess

Reason: mission use

COE

Illinois

Building

Bldg. 7

Ohio River Locks & Dam No. 53

Grand Chain Co: Pulaski IL 62941-9801

Property No.: 31199010001

Status: Unutilized

Reason: Project integrity and security; safety liability

Bldg. 6

Ohio River Locks & Dam No. 53

Grand Chain Co: Pulaski IL 62941-9801

Property No.: 31199010002

Status: Unutilized

Reason: Project integrity and security; safety liability

Bldg. 5

Ohio River Locks & Dam No. 53

Grand Chain Co: Pulaski IL 62941-9801

Property No.: 31199010003

Status: Unutilized

Reason: Project integrity and security; safety liability

Bldg. 4

Ohio River Locks & Dam No. 53

Grand Chain Co: Pulaski IL 62941-9801

Property No.: 31199010004

Status: Unutilized

Reason: Project integrity and security; safety liability

Bldg. 3

Ohio River Locks & Dam No. 53

Grand Chain Co: Pulaski IL 62941-9801

Property No.: 31199010005

Status: Unutilized

Reason: Project integrity and security; safety liability

Bldg. 2

Ohio River Locks & Dam No. 53

Grand Chain Co: Pulaski IL 62941-9801

Property No.: 31199010006

Status: Unutilized

Reason: Project integrity and security; safety liability

Bldg. 1

Ohio River Locks & Dam No. 53

Grand Chain Co: Pulaski IL 62941-9801

Property No.: 31199010007

Status: Unutilized

Reason: Project integrity and security; safety liability

Land

Lake Shelbyville

Shelbyville Co: Shelby & Moultrie IL 62565-9804

Property No.: 31199240004

Status: Unutilized

Reason: Disposal action initiated

Ohio

Building

Bldg.—Berlin Lake 7400 Bedell Road

Berlin Center Co: Mahoning OH 44401-9797

Property No.: 31199640001

Status: Unutilized

Reason: utilized as construction office

Pennsylvania

Building

Tract 403A

Grays Landing Lock & Dam Project

Greensboro Co: Greene PA 15338-

Property No.: 31199430021

Status: Unutilized

Reason: To be transferred to Borough

Tract 403B

Grays Landing Lock & Dam Project

Greensboro Co: Greene PA 15338-

Property No.: 31199430022

Status: Unutilized

Reason: To be transferred to Borough

Tract 403C

Grays Landing Lock & Dam Project

Greensboro Co: Greene PA 15338-

Property No.: 31199430023

Status: Unutilized

Reason: To be transferred to Borough

Land

East Branch Clarion River Lake

Wilcox Co: Elk PA

Property No.: 31199011012

Status: Underutilized

Reason: Location near damsite

Dashields Locks and Dam (Glenwillard, PA)

Crescent Twp. Co: Allegheny PA 15046-0475

Property No.: 31199210009

Status: Unutilized

Reason: Leased to Township

Wisconsin

Building

Former Lockmaster's Dwelling

DePere Lock 100 James Street

De Pere Co: Brown WI 54115-Property No.: 31199011526

Status: Unutilized

Reason: In negotiation for transfer to the State.

Energy

Idaho

Building

Bldg. CFA-613

Central Facilities Area

Idaho National Engineering Lab

Scoville Co: Butte ID 83415-

Property No.: 41199630001

Status: Unutilized

Reason: Historical issues

GSA

Alaska

Land

37.109 acres

U.S. Coast Guard

Gibson Cove Co: Kodiak AK

Property No.: 54200320001

Status: Surplus

GSA Number : 9-U-AK-783

Reason: interest by City

California

Building

Merced Federal Bldg.

415 W. 18th St.

Merced Co: CA 95340-

Property No.: 54200220012

Status: Surplus

GSA Number : 9-G-CA-1567

Reason: Federal interest

Fed. Bldg./Post Office 1125 I Street

Modesto Co: CA 95354-

Property No.: 54200310010

Status: Excess

GSA Number : 9-G-CA-1576

Reason: Federal interest

Calexico Border Patrol Station 813 Andrade Ave.

Calexico Co: CA 92231-Property No.: 54200320012

Status: Excess

GSA Number : 9-J-CA-1539

Reason: expressed interest

Florida

Land

Communications Annex Site

S. Allapattah Road

Homestead Co: Miami-Dade FL

Property No.: 54200310008

Status: Excess

GSA Number : 4-D-FL-1078-4A

Reason: State of Florida has expressed interest

Georgia

Land

Land w/highway interchange

Fort Benning

I-185 and Hwy 27/280

Columbus Co: Muscogee GA 31905-

Property No.: 54200320002

Status: Excess

GSA Number : 4-D-GA-0872

Reason: State interest

Hawaii

Land

Parcels 9, 2, 4

Loran Station Upolu Point

Hawi Co: Hawaii HI

Property No.: 54200220002

Status: Surplus

GSA Number : 9-U-HI-0572

Reason: Park interest

Illinois

Building

LaSalle Comm. Tower Site 1600 NE 8th St.

Richland Co: LaSalle IL 61370-

Property No.: 54200020019

Status: Excess

GSA Number : 1-D-IL-724

Reason: conveyance to State

Indiana

Building

Federal Building

610 Connecticut Street

Gary Co: IN 46402-

Property No.: 54200310011

Status: Excess

GSA Number: 1-G-IN-591

Reason: negotiated sale

Maryland

Building

29 Bldgs.

Walter Reed Army Medical Center

Forest Glen Annex, Linden Lane

Silver Spring Co: Montgomery MD 20910-1246

Property No.: 54200130012

Status: Excess

GSA Number: 11-D-MD-558-B

Reason: written expression of interest

Minnesota

Building

GAP Filler Radar Site

St. Paul Co: Rice MN 55101-

Property No.: 54199910009

Status: Excess

GSA Number: 1-GR(1)-MN-475

Reason: homeless conveyance

MG Clement Trott Mem. USARC

Walker Co: Cass MN 56484-

Property No.: 54199930003

Status: Excess

GSA Number: 1-D-MN-575

Reason: Federal interest

Mississippi

Building

Federal Building

500 West Main Street

Tupelo Co: Lee MS 38801-

Property No.: 54200340002

Status: Surplus

GSA Number: 4-G-MS-0561

Reason: Federal need

Missouri

Building

Hardesty Federal Complex

607 Hardesty Avenue

Kansas City Co: Jackson MO 64124-3032

Property No.: 54199940001

Status: Excess

GSA Number: 7-G-MO-637

Reason: continuation

New Jersey

Land

Belle Mead Depot

Rt. 206/Mountain View Rd.

Hillsborough Co: Somerset NJ 08502-

Property No.: 54200210014

Status: Excess

GSA Number: 1-G-NJ-0642

Reason: environmental

New York

Building

Social Sec. Admin. Bldg.

517 N. Barry St.

Olean Co: NY 10278-0004

Property No.: 54200230009

Status: Excess

GSA Number: 1-G-NY-0895

Reason: environmental questions

Army Reserve Center

205 Oak Street

Batavia Co: NY 14020-

Property No.: 54200240004

Status: Excess

GSA Number: 1-D-NY-890

Reason: Federal interest

Fed. Bldg. #2

850 Third Ave.

Brooklyn Co: NY 11232-

Property No.: 54200240005

Status: Surplus

GSA Number: 1-G-NY-0872

Reason: public interest

Hancock Army Complex

Track 4

Stewart Drive West

Cicero Co: Onondaga NY 13039-

Property No.: 54200310013

Status: Excess

GSA Number: 1-D-NY-803

Reason: negotiated sale

North Carolina

Building

Tarheel Army Missile Plant

Burlington Co: Alamance NC 27215-

Property No.: 54199820002

Status: Excess

GSA Number: 4-D-NC-593

Reason: Advertised

Vehicle Maint. Facility

310 New Bern Ave.

Raleigh Co: Wake NC 27601-

Property No.: 54200020012

Status: Excess

GSA Number: NC076AB

Reason: Federal need

Tennessee

Building

3 Facilities, Guard Posts

Volunteer Army Ammunition Plant

Chattanooga Co: Hamilton TN 37421-

Property No.: 54199930011

Status: Surplus

GSA Number: 4-D-TN-594F

Reason: negotiated sale

4 Bldgs.

Volunteer Army Ammunition Plant

Railroad System Facilities

Chattanooga Co: Hamilton TN 37421-

Property No.: 54199930012

Status: Surplus

GSA Number: 4-D-TN-594F

Reason: negotiated sale

200 bunkers

Volunteer Army Ammunition Plant

Storage Magazines

Chattanooga Co: Hamilton TN 37421-

Property No.: 54199930014

Status: Surplus

GSA Number: 4-D-TN-594F

Reason: negotiated sale

Bldg. 232

Volunteer Army Ammunition Plant

Chattanooga Co: Hamilton TN 37421-

Property No.: 54199930020

Status: Surplus

GSA Number: 4-D-TN-594F

Reason: negotiated sale

2 Laboratories

Volunteer Army Ammunition Plant

Chattanooga Co: Hamilton TN 37421-

Property No.: 54199930021

Status: Surplus

GSA Number: 4-D-TN-594F

Reason: negotiated sale

3 Facilities

Volunteer Army Ammunition Plant

Water Distribution Facilities

Chattanooga Co: Hamilton TN 37421-

Property No.: 54199930022

Status: Surplus

GSA Number: 4-D-TN-594F

Reason: negotiated sale

Land

1500 acres

Volunteer Army Ammunition Plant

Chattanooga Co: Hamilton TN 37421-

Property No.: 54199930015

Status: Surplus

GSA Number: 4-D-TN-594F

Reason: negotiated sale

Virginia

Building

SSA Trust Fund Bldg.

2301 Park Ave.

Lynchburg Co: VA 24501-

Property No.: 54200340010

Status: Excess

GSA Number: 4-G-VA-0734

Reason: homeless interest

Navy

Maryland

Land

1 acre

Naval Air Station

Patuxent River Co: St. Mary's MD 20670-

Property No.: 77200340014

Status: Underutilized

Reason: lease

VA

Iowa

Land

38 acres

VA Medical Center

1515 West Pleasant St.

Knoxville Co: Marion IA 50138-

Property No.: 97199740001

Status: Unutilized

Reason: Enhanced-Use Legislation potential

Michigan

Land

VA Medical Center

5500 Armstrong Road

Battle Creek Co: Calhoun MI 49016-

Property No.: 97199010015

Status: Underutilized

Reason: Being used for patient and program activities.

Montana

Building

VA MT Healthcare

210 S. Winchester

Miles City Co: Custer MT 59301-

Property No.: 97200030001

Status: Underutilized

Reason: transfer to Custer County

New York

Land

VA Medical Center

Fort Hill Avenue

Canandaigua Co: Ontario NY 14424-

Property No.: 97199010017

Status: Underutilized

Reason: Portion leased; portion landlocked

Pennsylvania

Land

VA Medical Center

New Castle Road

Butler Co: Butler PA 16001-

Property No.: 97199010016

Status: Underutilized

Reason: Used as natural drainage for facility property.

Land No. 645

VA. Medical Center

Highland Drive

Pittsburgh Co: Allegheny PA 15206-

Property No.: 97199010080

Status: Unutilized

Reason: Property is essential to security and safety of patients.

Land—34.16 acres

VA Medical Center

1400 Black Horse Hill Road

Coatesville Co: Chester PA 19320-

Property No.: 97199340001

Status: Underutilized

Reason: needed for mission related functions

Wisconsin

Building

Bldg. 2

VA Medical Center

5000 West National Ave.

Milwaukee WI 53295-

Property No.: 97199830002

Status: Underutilized

Reason: Subject of leasing negotiations

[FR Doc. 04-3032 Filed 2-12-04; 8:45 am]

BILLING CODE 4210-29-P